DEPARTMENT OF COMMERCE

Bureau of Industry and Security

15 CFR Parts 738, 740, 742, 744, 745, 748, and 758

[Docket No. 201215-0345]

RIN 0694-AI17

Removal of Hong Kong as a Separate Destination Under the Export Administration Regulations

AGENCY: Bureau of Industry and Security, Commerce.

ACTION: Final rule.

SUMMARY: In this rule the Bureau of Industry and Security (BIS) amends the Export Administration Regulations (EAR) to remove the People's Republic of China (PRC or China) Special Administrative Region of Hong Kong from the list of destinations in the EAR. The amendments implement Sections 2 and 3 of Executive Order 13936 of July 14, 2020, in response to new security measures imposed on Hong Kong by the government of China. These new measures fundamentally undermine Hong Kong's autonomy increasing the risk sensitive U.S. technology and items will be diverted to unauthorized end uses and end users in China.

DATES: This rule is effective December 23, 2020.

FOR FURTHER INFORMATION CONTACT: Tracy Patts, Foreign Policy Division, Office of Nonproliferation and Treaty Compliance, Bureau of Industry and Security, U.S. Department of Commerce, by email at Foreign.Policy@bis.doc.gov, or by phone at 202-482-4252.

SUPPLEMENTARY INFORMATION:

Background

This rule represents the culmination of a rapid escalation of tensions over several months between the United States and China over the Hong Kong Special Administrative Region (Hong Kong or HKSAR). A brief timeline follows below.

On May 21, a spokesperson for the PRC's National People's Congress (NPC) announced the body would consider a resolution authorizing the adoption of national security legislation for the HKSAR.

On May 27, the Secretary of State submitted the 2020 Hong Kong Policy Act Report to Congress, certifying that the HKSAR “does not continue to warrant treatment under U.S. laws in the same manner as U.S. laws were applied to Hong Kong before July 1997.” The Secretary's certification was issued pursuant to sections 205 and 301 of the United States-Hong Kong Policy Act of 1992 (HKPA).

On May 29, the President announced the Administration would “begin the process” of revoking the HKSAR's separate treatment from mainland China under U.S. laws, a status afforded to the HKSAR under the HKPA.

In June 2020, China followed through on imposing national security legislation on Hong Kong, and on further denying Hong Kong's autonomy and freedoms promised by China to the people of Hong Kong under the 1984 Joint Declaration of the Government of the United Kingdom of Great Britain and Northern Ireland and the Government of the People's Republic of China on the Question of Hong Kong (Joint Declaration). This national security legislation fundamentally undermined autonomy in Hong Kong, thereby increasing the risk that sensitive U.S. technology and items will be diverted to unauthorized end uses and end users in China or elsewhere. BIS announced on its website on June 30, 2020, and subsequently published in the Federal Register on July 31 at 85 FR 45998, a notice suspending the availability of all license exceptions for Hong Kong that provide differential treatment as compared to those available to the PRC. A license exception is an authorization allowing exports, reexports, or transfers (in-country) under stated conditions of items subject to the EAR that would otherwise require a license.

On July 14, the President signed Executive Order (E.O.) 13936 (85 FR 43413, 7/17/2020).

The amendments in this rule relative to Hong Kong implement E.O. 13936 with regard to its effect on the Export Control Reform Act of 2018 (ECRA) and the EAR. Section 2 of E.O. 13936 suspends the application of section 201(a) of the HKPA, to a variety of statutes, including ECRA. Section 3 of E.O. 13936 directs the heads of relevant agencies to “commence all appropriate actions [within 15 days] to further the purposes” of E.O. 13936, including by amending any regulations implementing statutes specified in section 2 that provide different treatment for Hong Kong as compared to China.

Summary of the Changes Proposed and Their Impact

Pursuant to E.O. 13936, BIS amends the EAR to remove provisions that provide differential and preferential treatment for exports to Hong Kong, reexports to Hong Kong and transfers (in-country) within Hong Kong of all items subject to the EAR when compared to the treatment for such transactions to or within China. As a result of this rule, Hong Kong will be treated the same as China under the EAR except in certain circumstances that do not provide preferential treatment. The references to Hong Kong that remain in the EAR support U.S. national security and foreign policy objectives, and recognize certain differences that remain in how trade is processed within and through Hong Kong. Specifically, in this rule, BIS amends:

PART 738—COMMERCE CONTROL LIST OVERVIEW AND THE COUNTRY CHART

Supplement No. 1 to Part 738—Commerce Country Chart by removing the entry for Hong Kong from the Commerce Country Chart. License requirements for Hong Kong will now be governed by the Commerce Country Chart entry for China.

PART 740—LICENSE EXCEPTIONS

On July 31, 2020, BIS published a final rule amending the EAR to suspend the availability of all license exceptions to Hong Kong that provide differential and preferential treatment as compared to those available to China (See: 85 FR 45998). The changes implemented in this final rule are consistent with and in addition to the amendments of the July 31, 2020 final rule. License exceptions made unavailable to Hong Kong and listed by that rule in paragraph (23) of § 740.2(a) of the EAR remain unavailable. However, because Hong Kong is being removed as a separate destination on the Commerce Country Chart and in other places in the EAR, and will fall under the destination of China, this rule removes paragraph (23) of § 740.2(a) of the EAR, which is no longer necessary to bring license exception availability for Hong Kong in line with license exception availability for China.

In addition, in order to remove specific references to Hong Kong in Part 740, BIS amends:

Section 740.7—Computers (APP) by removing Hong Kong from the list of Computer Tier 1 destinations in paragraph (c). Hong Kong will now be considered a part of China, in Computer Tier 3.

Section 740.11—Governments, international organizations, international inspections under the Chemical Weapons Convention, and the International Space Station (GOV) by removing Hong Kong from the description of `Cooperating governments' in paragraph (c)(1). This paragraph of License Exception GOV is not available for China, and thus is not available for Hong Kong.

Section 740.16—Additional permissive reexports (APR) by removing Hong Kong from paragraphs (a) (formerly titled Reexports from Country Group A:1 and Hong Kong) and (b)—Reexports to and among specified countries. These paragraphs of License Exception APR are not available for reexports from China, and paragraph (b) is not available for reexports to China, and thus these paragraphs are not available for similar transactions to or from Hong Kong. However, as part of China in Country Group D:1, Hong Kong will now be an eligible destination for reexports consistent with the provisions of paragraph (a).

Supplement No. 1 to Part 740—Country Groups by removing the entry for Hong Kong from Country Group A:6, and from Country Group B. Hong Kong will no longer appear separately within the Country Groups but will instead be considered a part of China. China is currently in Country Groups D:1, D:3, D:4, and D:5, and limitations or authorizations that apply to transactions involving China as part of those country groups will now also apply to transactions involving Hong Kong. This includes any limitations that apply to China as a result of its placement in Country Group D:5, consistent with the State Department's determination that the arms embargo on China also applies to Hong Kong.

PART 742—CONTROL POLICY—CCL BASED CONTROLS

Section 742.6—Regional stability by removing and reserving paragraph (a)(6)—RS requirement that applies to Hong Kong—a license requirement. This license requirement, for Export Control Classification Number 6A003.b.4.b, already applies to China, so removal of this provision specific to Hong Kong will not change a license requirement in the EAR.

PART 744—CONTROL POLICY: END-USER AND END-USE BASED

Supplement No. 4 to Part 744—Entity List by removing the entries of entities under the separate entry for “Hong Kong” and merging, alphabetically, those entities under the entry for “China, the People's Republic of”.

Supplement No. 6 to Part 744—Unverified List by removing the entries of entities under the separate entry for “Hong Kong” and merging, alphabetically, those entities under the entry for “China, the People's Republic of”.

PART 745—CHEMICAL WEAPONS CONVENTION REQUIREMENTS

Supplement No. 2 to Part 745—States Parties to the Convention on the Prohibition of the Development, Production, Stockpiles, and Use of Chemical Weapons and on Their Destruction by amending the first sentence with an asterisk that refers to Hong Kong at the end of the Supplement. This provision previously stated that Hong Kong was considered a part of China for CWC purposes only, but now it is considered a part of China for purposes of the EAR more generally.

PART 748—APPLICATIONS (CLASSIFICATION, ADVISORY, AND LICENSE) AND DOCUMENTATION

Section 748.10—People's Republic of China (PRC) End-User Statement by adding a NOTE 5 to paragraph (a) of the section to clarify for the public that a PRC-issued End User Statement is not required for license applications for exports or reexports to Hong Kong, even though Hong Kong is considered a part of China elsewhere in the EAR. As stated in Note 1 to paragraph (b) in § 748.9 of the EAR, BIS may still request end-user statements or other support documents for license applications involving Hong Kong on a case-by-case basis.

PART 758—EXPORT CLEARANCE REQUIREMENTS

BIS adds a note to paragraph (b)(10) of § 758.1 (The Electronic Export Information (EEI) Filing to the Automated Export System (AES)) stating that the EEI filing requirement for China described in paragraph (b)(10) applies to exports to Hong Kong for purposes of the EAR, even if the AES requirements state that the destination filed in EEI is to be listed as Hong Kong.

In removing Hong Kong as a separate destination for purposes of export controls under the EAR, it is treated as part of China for export control purposes and, thereby, is subject to the same license requirements, license exceptions and other applicable provisions under the EAR. Certain EAR provisions, however, retain references to Hong Kong because Hong Kong still operates a separate customs system and a separate export control system.

This rule implements a significant change for Hong Kong, which had previously been in different country groups, eligible for different license exceptions, and subject to different license requirements than China throughout the EAR. A notable change for those engaging in trade with or through Hong Kong will be that Hong Kong, as part of China, will now effectively fall in Country Group D, which will affect license exception availability. However, the impact of this change should be consistent with the impact of the July 31 rule suspending certain license exception eligibility for Hong Kong (see 85 FR 45998) and the earlier notice on the BIS website that accomplished the same purpose.

Certain licensing policies applicable specifically to China will now apply to license applications for transactions to Hong Kong, including policies described in §§ 742.3(b), 742.4(b), and 742.6(b).

In addition, treatment of Hong Kong as part of China, and thus in Country Group D:1, as a result of this rule will result in restrictions on the export, reexport, and transfer (in-country) of certain microprocessors to military end uses and end users in Hong Kong, pursuant to § 744.17, Restrictions on certain exports, reexports, and transfers (in-country) of microprocessors and associated “software” and “technology” for `military end uses' and to `military end users.' Similarly, as it is no longer distinguished as a separate destination from China under the EAR, exports to persons in Hong Kong are subject to the military end-use and end-user provisions of § 744.21—Restrictions on certain `military end use' or `military end user' in the People's Republic of China, Russia, or Venezuela.

For Hong Kong, as part of China, placement in Country Group D:1 will expand the licensing requirements for reexports of the foreign-produced direct product of U.S.-origin technology and software to Hong Kong pursuant to § 736.2(b)(3), General Prohibition Three.

As part of China, Hong Kong will also be subject to restrictions due to its placement in Country Group D:5—U.S. Arms Embargoed Countries, consistent with the State Department's interpretation that Hong Kong is now considered to be included in the entry for China for purposes of the International Traffic in Arms Regulations (ITAR) § 126.1.

End users in Hong Kong are now eligible to be added as validated end users in Supplement No. 7 to Part 748 of the EAR. The procedures for the addition of such end users is described more fully in § 748.15 of the EAR.

Export Control Reform Act of 2018

On August 13, 2018, the President signed into law the John S. McCain National Defense Authorization Act for Fiscal Year 2019, which included the Export Control Reform Act of 2018 (ECRA), 50 U.S.C. 4801-4852. ECRA provides the legal basis for BIS's principal authorities and serves as the authority under which BIS issues this rule.

Rulemaking Requirements

1. Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule has been designated a “significant regulatory action,” although not economically significant, under section 3(f) of Executive Order 12866.

2. Notwithstanding any other provision of law, no person may be required to respond to or be subject to a penalty for failure to comply with a collection of information, subject to the requirements of the Paperwork Reduction Act of 1995 (44 U.S.C. 3501 et seq.) (PRA), unless that collection of information displays a currently valid Office of Management and Budget (OMB) Control Number. This regulation involves a collection currently approved by OMB under control number 0694-0088, Simplified Network Application Processing System. This collection includes, among other things, license applications, and carries a burden estimate of 42.5 minutes for a manual or electronic submission for a total burden estimate of 31,878 hours. BIS expects the burden hours associated with this collection to increase slightly by 4 hours for an estimated cost increase of $120. This increase is not expected to exceed the existing estimates currently associated with OMB control number 0694-0088.

3. This rule does not contain policies with federalism implications as that term is defined under Executive Order 13132.

4. Pursuant to section 1762 of the Export Control Reform Act of 2018 (50 U.S.C. 4801-4852), which was included in the John S. McCain National Defense Authorization Act for Fiscal Year 2019, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

6. This final rule is not subject to the requirements of Executive Order 13771 (82 FR 9339, February 3, 2017) because it is issued with respect to a national security function of the United States. Hong Kong's current lack of autonomy increases the risk sensitive U.S. technology and items will be illegally diverted to unauthorized end uses and end users in the PRC or to unauthorized destinations such as Iran or North Korea. As the U.S. Government finds it can no longer distinguish between the export of controlled items to Hong Kong and the PRC, Executive Order 13936 and this subsequent rulemaking are meant to counteract actions taken by the PRC. The PRC's actions pose an unusual and extraordinary threat to the national security, foreign policy, and economy of the United States and its allies. Based on the current situation, Hong Kong no longer warrants treatment under certain United States laws, including export control laws, in the same manner as United States laws were applied to Hong Kong before July 1, 1997.

Therefore, the cost-benefit analysis required pursuant to Executive Orders 12866 and 13563 indicates this rule is intended to improve national security as its primary direct benefit. Accordingly, this rule meets the requirements set forth in the April 5, 2017 OMB guidance implementing Executive Order 13771 (82 FR 9339, February 3, 2017) regarding what constitutes a regulation issued “with respect to a national security function of the United States,” and is, therefore, exempt from the requirements of Executive Order 13771.

Savings Clause

Shipments of items that may no longer be made under No License Required (NLR) as a result of this action and were on dock for loading, on lighter, laden aboard an exporting or transferring carrier, or en route aboard a carrier to a port of export or reexport on December 23, 2020, pursuant to actual orders for export to Hong Kong, reexport to Hong Kong, or transfer within Hong Kong may proceed to their destination under NLR January 22, 2021.

List of Subjects

15 CFR Parts 738

Exports.

15 CFR Parts 740, 748, and 758

Administrative practice and procedure, Exports, Reporting and recordkeeping requirements.

15 CFR Part 742

Exports, Terrorism.

15 CFR Part 744

Exports, Reporting and recordkeeping requirements, Terrorism.

15 CFR Part 745

Administrative practice and procedure, Chemicals, Exports, Foreign trade, Reporting and recordkeeping requirements.

Accordingly, parts 738, 740, 742, 744, 745, 748, and 758 of the Export Administration Regulations (15 CFR parts 730 -774) are amended as follows:

PART 738—COMMERCE CONTROL LIST OVERVIEW AND THE COUNTRY CHART

1. The authority citation for part 738 continues to read as follows:

Authority: 50 U.S.C. 4801-4852; 50 U.S.C. 4601 et seq.; 50 U.S.C. 1701 et seq.; 10 U.S.C. 8720; 10 U.S.C. 8730(e); 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

Supplement No. 1 to Part 738—[Amended]

2. The table in supplement no. 1 to part 738 is amended by removing the entry for “Hong Kong”.

PART 740—LICENSE EXCEPTIONS

3. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

§ 740.2 [Amended]

4. Section 740.2 is amended by removing paragraph (a)(23).

§ 740.7 [Amended]

5. Section 740.7 is amended by removing “Hong Kong” from paragraph (c)(1).

6. Section 740.11 is amended by revising paragraph (c)(1) introductory text to read as follows:

§ 740.11 Governments, international organizations, international inspections under the Chemical Weapons Convention, and the International Space Station (GOV).

* * * * *

(c) Cooperating governments and the North Atlantic Treaty Organization—(1) Scope. The provisions of this paragraph (c) authorize exports, reexports, and transfers (in-country) of the items listed in paragraph (c)(2) of this section to agencies of cooperating governments or agencies of the North Atlantic Treaty Organization (NATO). 'Agency of a cooperating government' includes all civilian and military departments, branches, missions, and other governmental agencies of a cooperating national government. `Cooperating governments' are the national governments of countries listed in Country Group A:1 (see supplement no. 1 to this part) and the national governments of Singapore and Taiwan.

* * * * *

7. Section 740.16 is amended by revising paragraphs (a) and (b) to read as follows:

§ 740.16 Additional permissive reexports (APR).

* * * * *

(a) Reexports from Country Group A:1. Reexports may be made from countries in Country Group A:1, provided that:

(1) The reexport is made in accordance with the conditions of an export authorization from the government of the reexporting country;

(2) The commodities being reexported are not controlled for NP, CB, MT, SI, or CC reasons or described in ECCNs 0A919, 3A001.b.2 or b.3 (except those that are being reexported for use in civil telecommunications applications), 6A002, 6A003; or commodities classified under a 0x5zz ECCN; and

(3) The reexport is destined to either:

(i) A country in Country Group B that is not also included in Country Group D:2, D:3, or D:4; and the commodity being reexported is both controlled for national security reasons and not controlled for export to Country Group A:1; or

(ii) A country in Country Group D:1 (National Security) (see Supplement No. 1 to part 740), other than North Korea and the commodity being reexported is controlled for national security reasons.

(b) Reexports to and among specified countries. (1) Eligible commodities may be reexported to and among destinations in Country Group A:1 for use or consumption within a destination in Country Group A:1 (see supplement no. 1 to part 740), or for reexport from such country in accordance with other provisions of the EAR.

(2) Commodities not eligible for reexport under paragraph (b)(1) of this section are:

(i) Commodities controlled for nuclear nonproliferation or missile technology reasons;

(ii) Commodities in 3A001.b.2 or b.3 (except those that are being reexported for use in civil telecommunications applications);

(iii) “Military commodities” described in ECCN 0A919;

(iv) Commodities described in ECCN 0A504 that incorporate an image intensifier tube;

(v) Commodities described in ECCN 6A002; or

(vi) Commodities classified under a 0x5zz ECCN.

(3) Cameras described in ECCNs 6A003 may be exported or reexported to and among countries in Country Group A:1 (see supplement no. 1 to this part) if:

(i) Such cameras are fully packaged for use as consumer ready civil products; or

(ii) Such cameras with not more than 111,000 elements are to be embedded in civil products.

* * * * *

Supplement No. 1 to Part 740 [Amended]

8. Supplement no. 1 to part 740 is amended in the Country Group A and B tables by removing the entries for “Hong Kong”.

PART 742—CONTROL POLICY—CCL BASED CONTROLS

9. The authority citation for part 742 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 12, 2019, 84 FR 61817 (November 13, 2019).

§ 742.6 [Amended]

10. Section 742.6 is amended by removing and reserving paragraph (a)(6).

PART 744—CONTROL POLICY: END-USER AND END-USE BASED

11. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2020, 85 FR 59641 (September 22, 2020); Notice of November 12, 2020, 85 FR 72897 (November 13, 2020).

Supplement No. 4 to Part 744 [Amended]

11. Supplement no. 4 to part 744 is amended:

a. Under CHINA, PEOPLE'S REPUBLIC OF:

i. By adding in alphabetical order entries for “32Group China Ltd.,” “ACTeam Logistics Ltd.,” “Action Global,” “Amaze International,” “Anvik Technologies Sdn. Bhd.,” “Babak Jafarpour,” “Bako Cheung,” “Bing Lu,” “Biznest, LTD,” “Calvin Law,” “Caprice Group Ltd.,” “Centre Bright Electronics Company Limited,” “Channel Rich Electronics Company Limited,” “Cho-Man Wong,” “CLC Holdings Limited,” “Cloudminds (Hong Kong) Limited,” “Corad Technology Limited,” “Dick Kuo, Ltd.,” “Dick Leung,” “Exodus Microelectronics Company Limited,” “FOC (HK) Technology Co., Ltd.,” “Fortune Source Electronics Co. Ltd.,” “Giant Base Asia Limited,” “Giovan Ltd.,” “Hang Tat Electronics Enterprises Co.,” “Hansen Technologies Limited,” “Hong Chun Tai,” “Hong Kong Fung Tak Enterprise,” “Hua Ying Management Co. Limited,” “Huawei Cloud Hong Kong,” “Huawei Device (Hong Kong) Co., Limited,” “Huawei International Co., Limited,” ” Huawei Tech. Investment Co., Limited,” “Huawei Technologies Co. Ltd.,” “Infinity Wise Technology Limited,” “Jadeshine Engineering (HK) Co.,” “Jason Shuai,” “JLD Technology, Hong Kong Co., Ltd.,” “Joe Shih,” “Joinus Freight Systems (H.K.) Limited,” “K Logistics (China) Limited,” “Kitronix Display,” “Kong Fat Electronic Trading Limited,” “LHI Technology (H.K.) Company Limited,” “Lim Kow Seng,” “OEM Hub Co Ltd,” “OnTime Electronics Technology Company,” “Panda Semiconductor,” “Pinky Trading Co., Ltd.,” “Ray Hui,” “Reekay Technology Ltd.,” “Sau Luen Chan,” “Sergey Koynov,” “Serko Limited,” “Signet Express Co., Ltd.,” “Sik Yin Ngai,” “Sinovac Technology Limited,” “Siu Ching Ngai,” “Skylinks FZC,” “Smartcom (Hong Kong) Co., Limited,” “SMIC Hong Kong International Company Limited,” “Synergy Express Ltd.,” “Sysdynamic Limited,” “Tam Shue Ngai,” “Tam Wai Tak,” “Technopole Ltd.,” “Tex-Co Logistics Ltd.,” “Victory Wave Holdings Limited,” “Well Smart (HK) Technology,” “Wise Smart (HK) Electronics Limited,” “Wong Wai Chung,” “Wong Yung Fai,” “Y-Sing Components Limited,” “Yeraz, LTD,” and “ZM International Company Ltd.,” and

ii. By revising the entries for “Avin Electronics Technology Co., Ltd. (AETC),” “Beijing Lion Heart International Trading Company,” “BVI Electronics,” “Chitron Electronics Company Ltd,” “Comsum Technologies (Group) Ltd.,” “Corezing International,” “Foang Tech Inc.,” “HWA Create,” “Jadeshine Engineering HK Co.,” “JCN (HK) Technology Co., Ltd.,” “Kinglead Electronics Co., Ltd.,” “Luo Jie,” “Multi-Mart Electronics Technology Co, Ltd.,” “Oriental Logistics Group LTD,” “Peaceful Vision (Lianyungang) Electronic Co., Ltd.,” “PRC Lode Technology Company,” “Sky Rise Technology Ltd.,” “Su Bin,” “Taihe Electric (Hong Kong) Limited,” “Tenco Technology Company Ltd.,” “TiMi Technologies Co., Ltd.” “Wang Wei,” “Xian Semi Electronic Co., Ltd.,” “Xianfa Lin,” “Yutron Technology Co. Ltd.,” and “Zhou Zhenyong”;

b. By removing the entry for HONG KONG and all of the Hong Kong entities;

c. Under INDIA, by revising the entries for “Giovan Ltd.” and “Technopole Ltd.”;

d. Under IRAN, by revising the entries for “Anvik Technologies Sdn. Bhd.” and “Babak Jafarpour”;

e. Under MALAYSIA, by revising the entries for “Anvik Technologies Sdn. Bhd.” and “Babak Jafarpour”;

f. Under RUSSIA, by revising the entry for “Sergey Koynov”;

g. Under SINGAPORE, by revising the entries for “Action Global,” “Amaze International,” “Corezing International,” and “Lim Kow Seng”;

h. Under TAIWAN, by revising the entry for “Infinity Wise Technology Limited”; and

i. Under UNITED ARAB EMIRATES, by revising the entry for “Skylinks FZC”.

The additions and revisions read as follows:

Supplement No. 4 to Part 744—Entity List

Country | Entity | License requirement | License review policy | Federal Register citation
* * * * * * *
CHINA, PEOPLE'S REPUBLIC OF | 32Group China Ltd., Room 1905, 19/F, Nam Wo Hong Bldg., 148 Wing Lok Street, Sheung Wang, Hong Kong; and Room 1119, 11/F, Block B, Yau Tong Industrial City, 17 Ko Fai Road, Yau Tong, Kowloon, Hong Kong. | For all items subject to the EAR. (See § 744.11 of the EAR). | Presumption of denial | 80 FR 69856, 11/12/15. 85 FR [INSERT FR PAGE NUMBER AND 12/23/20].
| * * * * * *
| ACTeam Logistics Ltd., Unit B1-B3, 21/F, Block B, Kong Nam Industrial Building, 603-609 Castle Peak Road, Tsuen Wan, N.T., Hong Kong. | For all items subject to the EAR. (See § 744.11 of the EAR). | Presumption of denial | 75 FR 7359, 2/19/10. 85 FR [INSERT FR PAGE NUMBER AND 12/23/20].
| Action Global, a.k.a., the following one alias: —Action Global Co., Limited. C/O Win Sino Flat 12, 9/F, PO Hong Centre, 2 Wang Tung Street, Kowloon Bay, KLN, Hong Kong; and Flat/RM 1510A, 15/F Ho King COMM Ctr, 2-16 Fa Yuen Street, Mongkok KL, Hong Kong (See alternate address under Singapore). | For all items subject to the EAR. (See § 744.11 of the EAR). | Presumption of denial | 76 FR 67062, 10/31/11. 85 FR [INSERT FR PAGE NUMBER AND 12/23/20].
| * * * * * *
| Amaze International, Flat/Rm D, 11/F 8 Hart Avenue 8-10 Hart Avenue, Tsim Sha Tsui KL, Hong Kong (See alternate address under Singapore). | For all items subject to the EAR. (See § 744.11 of the EAR). | Presumption of denial | 76 FR 67062, 10/31/11. 85 FR [INSERT FR PAGE NUMBER AND 12/23/20].
| Anvik Technologies Sdn. Bhd., a.k.a., the following eight aliases: —Anvik Technologies; —Cason Technologies; —Henan Electronics; | For all items subject to the EAR. (See § 744.11 of the EAR). | Presumption of denial | 78 FR 75463, 12/12/13. 85 FR [INSERT FR PAGE NUMBER AND 12/23/20].
| —Hixton Technologies;
| —Hudson Technologies, Ltd.;
| —Hudson Engineering (Hong Kong) Ltd.;
| —Madison Engineering Ltd.; and
| —Montana Advanced Engineering.
| Level 19, Two International Finance Centre, 8 Finance Street, Central, Hong Kong (See alternate addresses under Iran and Malaysia).
| * * * * * *
| Avin Electronics Technology Co., Ltd. (AETC), Room 401, Yuepeng Building, Jiabin Road, Luohu District, Shenzhen, Guangdong, China; and 1019 Jiabin Road, Luohu Qu, Shenzhen Shi, Guangdong, China; and 10F, Kras Asia Industrial Bldg., No. 79 Hung To Road, Kwun Kowloon, Hong Kong, 999077. | For all items subject to the EAR. (See § 744.11 of the EAR.) | Presumption of denial | 84 FR 21236, 5/14/19. 85 FR [INSERT FR PAGE NUMBER AND 12/23/20].
| Babak Jafarpour, a.k.a., the following five aliases: —Bob Jefferson; —Peter Jay; —Sam Lee; | For all items subject to the EAR. (See § 744.11 of the EAR). | Presumption of denial | 78 FR 75463, 12/12/13. 85 FR [INSERT FR PAGE NUMBER AND 12/23/20].
| —Samson Lee; and
| —David Lee.
| Unit 501, 5/F, Global Gateway, 168 Yeung HK Road, Tsuen Wan, Hong Kong; and 9/F, Henan Building, 19 Luard Road, Wanchai, Hong Kong; and Level 19, Two International Finance Centre, 8 Finance Street, Central, Hong Kong (See alternate addresses under Iran and Malaysia).
| Bako Cheung, Unit 803, Fourseas Building, 208-212 Nathan Road, Kowloon, Hong Kong; and Room 803, Fourseas Bldg 208-212 Nathan Rd, Kowloon, Hong Kong. | For all items subject to the EAR. (See § 744.11 of the EAR). | Presumption of denial | 79 FR 56003, 9/18/14. 85 FR [INSERT FR PAGE NUMBER AND 12/23/20].
| * * * * * *
| Beijing Lion Heart International Trading Company, a.k.a., the following one alias: —Wei Lai Xi Tong Ltd. | For all items subject to the EAR. (See § 744.11 of the EAR). | Presumption of denial | 79 FR 56003, 9/18/14. 85 FR [INSERT FR PAGE NUMBER AND 12/23/20].
| Suite number 1819, The International Center of Times, Number 101, Shoa Yao Ju BeiLi, Chaoyang District, Beijing, China; and Room 1318-20, 13F, Hollywood Plaza, 610 Nathan Road, Mongkok Kowloon, Hong Kong.
| * * * * * *
| Bing Lu, Room 804 Sino Center, 582-592 Sino Center Road, Hong Kong. | For all items subject to the EAR. (See § 744.11 of the EAR). | Presumption of denial | 79 FR 32445, 6/5/14. 85 FR [INSERT FR PAGE NUMBER AND 12/23/20].
| Biznest, LTD, Room 927 9/F Far East Consortium Building, 121 Des Voeux Road C, Central District, Hong Kong; and 4/F, Hong Kong Trade Centre, 161 167 Des Voeux Road, Central, Hong Kong. | For all items subject to the EAR. (See § 744.11 of the EAR). | Presumption of denial | 76 FR 44259, 7/25/11. 80 FR 69856, 11/12/15. 85 FR [INSERT FR PAGE NUMBER AND 12/23/20].
| * * * * * *
| BVI Electronics, B28 10/F Nanfang Da Sha, XIDI Ernalu GangZhou, China 511486; and G/F Far East FAC Building No. 334-336 Kwun Tong road, Kwun Tong Kowloon, Hong Kong. | For all items subject to the EAR. (See § 744.11 of the EAR). | Presumption of denial | 79 FR 32445, 6/5/14. 85 FR [INSERT FR PAGE NUMBER AND 12/23/20].
| Calvin Law, Flat 2808, 28/F, Asia Trade Centre, 79 Lei Muk Road, Kwai Chung, N.T., Hong Kong; and Units 801-803 and 805, Park Sun Building, No. 97-107 Wo Yi Hop Road, Kwai Chung, N.T., Hong Kong. | For all items subject to the EAR. (See § 744.11 of the EAR). | Presumption of denial | 83 FR 44824, 9/4/18. 84 FR 40241, 8/14/19. 85 FR [INSERT FR PAGE NUMBER AND 12/23/20].
| Caprice Group Ltd., Room 1119, 11/F, Block B1, Yau Tong Industrial City, 17 Ko Fai Road, Yau Tong, Kowloon, Hong Kong; and Unit B1, G/F Pioneer Building, 213 Wai Yip St., Kwun Tong, Kowloon, Hong Kong; and Unit A, G/F, Pioneer Building, 213 Wai Yip St., Kwun Tong, Kowloon, Hong Kong. | For all items subject to the EAR. (See § 744.11 of the EAR). | Presumption of denial | 80 FR 69856, 11/12/15. 85 FR [INSERT FR PAGE NUMBER AND 12/23/20].
| * * * * * *
| Centre Bright Electronics Company Limited, Unit 7A, Nathan Commercial Building 430-436 Nathan Road, Kowloon, Hong Kong; and Room D, Block 1, 6/F International Industrial Centre, 2-8 Kwei Tei Street, Shatin New Territories, Hong Kong. | For all items subject to the EAR. (See § 744.11 of the EAR). | Presumption of denial | 75 FR 1701, 1/13/10. 85 FR [INSERT FR PAGE NUMBER AND 12/23/20].
| * * * * * *
| Channel Rich Electronics Company Limited, Unit 803, Fourseas Building, 208-212 Nathan Road, Kowloon, Hong Kong; and Room 803, Fourseas Bldg 208-212 Nathan Rd, Kowloon, Hong Kong. | For all items subject to the EAR. (See § 744.11 of the EAR). | Presumption of denial | 79 FR 56003, 9/18/14. 85 FR [INSERT FR PAGE NUMBER AND 12/23/20].
| * * * * * *
| Chitron Electronics Company Ltd, a.k.a., the following one alias: —Chi-Chuang Electronics Company Ltd (Chitron-Shenzhen). | For all items subject to the EAR. (See § 744.11 of the EAR). | Presumption of denial | 75 FR 1701, 1/13/10. 85 FR [INSERT FR PAGE NUMBER AND 12/23/20].
| 2127 Sungang Rd, Huatong Bldg, 19/F, Louhu Dist, Shenzhen, China 518001; and 169 Fucheng Rd, Fenggu Bldg., 7/F, Mianyang, China 621000; and Zhi Chun Rd, No 2 Bldg of Hoajing jiayuan, Suite #804, Haidian Dist, Beijing, China 100086; and 40 North Chang'an Rd, Xi'an Electronics Plaza Suite #516, Xi'an, China 710061; and 9 Huapu Rd, Chengbei Electronics & Apparatus Mall, 1/F Suite #39, Chengdu, China 610081; and 2 North Linping Rd Bldg 1. Suite #1706, Hongkou Dist, Shanghai, China 200086; and 6 Shing Yip St. Prosperity Plaza 26/F, Suite #06, Kwun Tong, Kowloon, Hong Kong.
| Cho-Man Wong, Room 2608, Technology Plaza 29-35 Sha Tsui Road Tsuen Wan, Hong Kong; and Unit 803, Fourseas Building, 208-212 Nathan Road, Kowloon, Hong Kong; and Room 803, Fourseas Bldg 208-212 Nathan Rd, Kowloon, Hong Kong. | For all items subject to the EAR. (See § 744.11 of the EAR). | Presumption of denial | 76 FR 63184, 10/12/11. 79 FR 56003, 9/18/14. 85 FR [INSERT FR PAGE NUMBER AND 12/23/20].
| * * * * * *
| CLC Holdings Limited, a.k.a., the following one alias: —CLC Xpress. Flat 2808, 28/F, Asia Trade Centre, 79 Lei Muk Road, Kwai Chung, N.T., Hong Kong; and Units 801-803 and 805, Park Sun Building, No. 97-107 Wo Yi Hop Road, Kwai Chung, N.T., Hong Kong. | For all items subject to the EAR. (See § 744.11 of the EAR). | Presumption of denial | 83 FR 44824, 9/4/18. 84 FR 40241, 8/14/19. 85 FR [INSERT FR PAGE NUMBER AND 12/23/20].
| Cloudminds (Hong Kong) Limited, 10/F Massmutual Twr 33, Lockhart Rd, Wan Chai, Hong Kong. | For all items subject to the EAR. (See § 744.11 of the EAR). | Presumption of denial | 85 FR 34497, 6/5/20. 85 FR [INSERT FR PAGE NUMBER AND 12/23/20].
| * * * * * *
| Comsum Technologies (Group) Ltd., Room 408, Unit 6, Xin Qi Dian Jia Yan, 5 Chang Qiao Road, Beijing, 100089, China; and Room 1005, 10/F Carnarvon Plaza, 20 Carnarvon Road, TST, Kowloon, Hong Kong. | For all items subject to the EAR. (See § 744.11 of the EAR). | Presumption of denial | 78 FR 75463, 12/12/13. 85 FR [INSERT FR PAGE NUMBER AND 12/23/20].
| Corad Technology Limited, a.k.a., the following one alias: —Corad Technology (China) Limited. Unit 1306, 13/F, Nanyang Plaza 57 Hung To Road Kwun Tong, Hong Kong; and Room K, 5/F, Winner Factory Building No. 55 Hung To Road, Kwun Tong Kowloon, Hong Kong. | For all items subject to the EAR. (See § 744.11 of the EAR.) | Presumption of denial | 84 FR 40241, 8/14/19. 85 FR [INSERT FR PAGE NUMBER AND 12/23/20].
| Corezing International, a.k.a., the following five aliases: —CoreZing Electronics; —Corezing International Group Company; | For all items subject to the EAR. (See § 744.11 of the EAR). | Presumption of denial | 76 FR 67062, 10/31/11. 85 FR [INSERT FR PAGE NUMBER AND 12/23/20].
| —Corezing International Pte Ltd;
| —Corezing Technology Pte Ltd; and
| —Core Zing.
| Room 1007, Block C2, Galaxy Century Bldg., CaiTian Rd., FuTian District, Shenzhen, China; and Room 1702, Tower B, Honesty Building, Humen, Dongguan, Guangdong, China; and G/F, No. 89, Fuyan Street, Kwun Tong, Hong Kong; and Flat 12, 9F Po Hong Kong, 2 Wang Tung Street, Kowloon Bay, Hong Kong; and Flat/RM B 8/F, Chong Ming Bldg., 72 Cheung Sha Wan Road KL, Hong Kong; and FlatiRM 2309, 23/F, Ho King COMM Center, 2-16 Fa Yuen Street, Mongkok KLN, Hong Kong (See alternate address under Singapore).
| * * * * * *
| Dick Kuo, Ltd., Room 9-11, 5/F, Block B, Hoplite Industrial Centre, 3-5 Wang Tai Road, Kowloon, Hong Kong. | For all items subject to the EAR. (See § 744.11 of the EAR). | Presumption of denial | 75 FR 7359, 2/19/10. 85 FR [INSERT FR PAGE NUMBER AND DATE OF 12/23/20].
| Dick Leung, GF Seapower Industrial Building 177, Hoi Bun Road, Kowloon, Hong Kong. | For all items subject to the EAR. (See § 744.11 of the EAR). | Presumption of denial | 75 FR 7359, 2/19/10. 85 FR [INSERT FR PAGE NUMBER AND 12/23/20].
| * * * * * *
| Exodus Microelectronics Company Limited, Unit 9B, Nathan Commercial Building 430-436 Nathan Road, Kowloon, Hong Kong; and Unit 6B, Block 1, International Centre 2-8 Kwei Tei Street, Shatin, New Territories, Hong Kong; and Unit 6B, Block 1, International Industrial Centre, 2-8 Kwei Tei Street, Shatin, Hong Kong. | For all items subject to the EAR. (See § 744.11 of the EAR). | Presumption of denial | 75 FR 1701, 1/13/10. 85 FR [INSERT FR PAGE NUMBER AND 12/23/20].
| * * * * * *
| Foang Tech Inc., a.k.a., the following one alias: —Ofogh Electronics Co. 52F, Shun Hing Square, Unit 1-8 Di Wang Commercial Center, Shenzhen, China; and Flat/RM 1701-Ricky CTR, 36 Chowg Yip Street, Kwun Tong, Hong Kong. | For all items subject to the EAR. (See § 744.11 of the EAR). | Presumption of denial | 81 FR 40178, 6/21/16. 85 FR [INSERT FR PAGE NUMBER AND 12/23/20].
| FOC (HK) Technology Co., Ltd., Room 8, 6/F, Shun On Commercial Building, 112-114 Des Voeux Road, Central, Hong Kong. | For all items subject to the EAR. (See § 744.11 of the EAR). | Presumption of denial | 78 FR 75463, 12/12/13. 85 FR [INSERT FR PAGE NUMBER AND 12/23/20].
| Fortune Source Electronics Co. Ltd., Unit A, 7/F Capri Building, 130 Austin Road, KLN, Hong Kong; and Unit A7/F Capri Building, 130 Austin Road, KLN, Hong Kong; and Unit 803, Fourseas Building, 208-212 Nathan Road, Kowloon, Hong Kong. | For all items subject to the EAR. (See § 744.11 of the EAR). | Presumption of denial | 79 FR 56003, 9/18/14. 85 FR [INSERT FR PAGE NUMBER AND 12/23/20].
| * * * * * *
| Giant Base Asia Limited, Room 2205, 22/F, Kowloon Building, 555 Nathan Road, Hong Kong; and Flat E, Block 1, 12/F, Superluck Industrial Centre, Tsuen Wan, New Territories, Hong Kong. | For all items subject to the EAR. (See § 744.11 of the EAR). | Presumption of denial | 78 FR 18808, 03/28/13. 80 FR 69856, 11/12/15. 85 FR [INSERT FR PAGE NUMBER AND 12/23/20].
| Giovan Ltd., Suite 1505-6, Albion Plaza, 2-6 Granville Road, TsimShatSui, Kowloon, Hong Kong (See alternate address under India). | For all items subject to the EAR. (See § 744.11 of the EAR). | Presumption of denial | 81 FR 61601, 9/7/16. 85 FR [INSERT FR PAGE NUMBER AND 12/23/20].
| * * * * * *
| Hang Tat Electronics Enterprises Co., Room 2608, Technology Plaza 29-35 Sha Tsui Road, Tsuen Wan, Hong Kong. | For all items subject to the EAR. (See § 744.11 of the EAR). | Presumption of denial | 76 FR 63186, 10/12/11. 85 FR [INSERT FR PAGE NUMBER AND 12/23/20].
| * * * * * *
| Hansen Technologies Limited, Unit 501, 5/F, Global Gateway, 168 Yeung HK Road, Tsuen Wan, Hong Kong; and 9/F, Henan Building, 19 Luard Road, Wanchai, Hong Kong. | For all items subject to the EAR. (See § 744.11 of the EAR). | Presumption of denial | 78 FR 75463, 12/12/13. 85 FR [INSERT FR PAGE NUMBER AND 12/23/20].
| * * * * * *
| Hong Chun Tai, Unit 27B, Block 8, Monte Vista, 9 Sha On Street, Ma On Shan New Territories, Hong Kong; and Unit 7A, Nathan Commercial Building, 430-436 Nathan Road Kowloon, Hong Kong; and Room D, Block 1, 6/F International Industrial Centre, 2-8 Kwei Tei Street, Shatin, New Territories, Hong Kong; and Unit 9B, Nathan Commercial Building, 430-436 Nathan Road Kowloon, Hong Kong. | For all items subject to the EAR. (See § 744.11 of the EAR). | Presumption of denial | 75 FR 1701, 1/13/10. 85 FR [INSERT FR PAGE NUMBER AND 12/23/20].
| Hong Kong Fung Tak Enterprise, FLAT/RM A 30, 9/F Silvercorp International Tower, 707-713, Nathan Road, Mongkok, Kowloon, Hong Kong. | For all items subject to the EAR. (See § 744.11 of the EAR). | Presumption of denial | 85 FR 59421, 9/22/20. 85 FR [INSERT FR PAGE NUMBER AND 12/23/20].
| Hua Ying Management Co. Limited, Tsim Sha Tsui, Kowloon, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR 51603, 8/20/20. 85 FR [INSERT FR PAGE NUMBER AND 12/23/20].
| * * * * * *
| Huawei Cloud Hong Kong, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR 51603, 8/20/20. 85 FR 52901, 8/27/20. 85 FR [INSERT FR PAGE NUMBER AND 12/23/20].
| * * * * * *
| Huawei Device (Hong Kong) Co., Limited, Tsim Sha Tsui, Kowloon, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR 51603, 8/20/20. 85 FR [INSERT FR PAGE NUMBER AND 12/23/20].
| * * * * * *
| Huawei International Co., Limited, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR 51603, 8/20/20. 85 FR [INSERT FR PAGE NUMBER AND 12/23/20].
| * * * * * *
| Huawei Tech. Investment Co., Limited, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR 51603, 8/20/20. 85 FR [INSERT FR PAGE NUMBER AND 12/23/20].
| * * * * * *
| Huawei Technologies Co. Ltd., Tsim Sha Tsui, Kowloon, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR 51603, 8/20/20. 85 FR [INSERT FR PAGE NUMBER AND 12/23/20].
| * * * * * *
| HWA Create, 5/F, Xinshidai Building/New Era Mansion, 7 Huayuan Rd., Beijing, China; and No. B3 Huayuan Rd., Beijing, China, and Unit 1001-1002, 10F, Chinachem Building, 34-37 Connaught Rd., Hong Kong; and Unit A 5th Floor, Cheong Commercial Building, 19-25 Jervois St, Hong Kong; and Unit B, 6/F, Dah Sing Life Building, 99—1-5 Des Voeux Rd, Hong Kong. | For all items subject to the EAR. (See § 744.11 of the EAR). | Presumption of denial | 79 FR 36202, 6/26/14. 85 FR [INSERT FR PAGE NUMBER AND 12/23/20].
| * * * * * *
| Infinity Wise Technology Limited, 7/F One Kowloon, 1 Wang Yuen Street, Kowloon Bay, Kowloon, Hong Kong; and Room 1213 Chui King House, Choi Hung Estate, Kowloon, Hong Kong (See alternate addresses under Taiwan). | For all items subject to the EAR. (See § 744.11 of the EAR). | Presumption of denial | 81 FR 40178, 6/21/16. 85 FR [INSERT FR PAGE NUMBER AND 12/23/20].
| * * * * * *
| Jadeshine Engineering (HK) Co., Room 702, Boss Commercial Centre, Ferry Street 38, Kowloon, Hong Kong; and G/F BLK C 255 Sai Tau Wai DD 123 Lot 1307 Yuen Long, NT, Hong Kong. | For all items subject to the EAR. (See § 744.11 of the EAR). | Presumption of denial | 78 FR 18808, 03/28/13. 80 FR 69856, 11/12/15. 85 FR [INSERT FR PAGE NUMBER AND 12/23/20].
| Jadeshine Engineering HK Co., Shanghai, China; and Langfang, China; and G/F Blk C, 255 Tau Wai, DD 123 Lot, Yuen Long, Hong Kong. | For all items subject to the EAR. (See § 744.11 of the EAR). | Presumption of denial | 78 FR 18811, 03/28/13. 85 FR [INSERT FR PAGE NUMBER AND 12/23/20].
| * * * * * *
| Jason Shuai, a.k.a., the following one alias: —Jason Shine. Hong Kong. | For all items subject to the EAR. (See § 744.11 of the EAR). | Presumption of denial | 78 FR 18811, 3/28/13. 85 FR [INSERT FR PAGE NUMBER AND 12/23/20].
| JCN (HK) Technology Co., Ltd., Room 8D Block A, Guanghao International Center, Meilong Road, Longhua District, Shenzhen, Guangdong, China; and Unit 1516 Block B, Guanghao International Center, Meilong Road, Longhua District, Shenzhen, Guangdong, China; and Rm. 502, Arion Centre, 2-12 Queen's Rd West, Hong Kong. | For all items subject to the EAR. (See § 744.11 of the EAR). | Presumption of denial | 85 FR 34497, 6/5/20. 85 FR [INSERT FR PAGE NUMBER AND 12/23/20].
| * * * * * *
| JLD Technology, Hong Kong Co., Ltd., Room 1237, Pacific Trade Centre, No. 2 Kai Hing Road, Kowloon Bay, Hong Kong; and Room 301-2, Hang Seng Wanchai Building, 3rd Floor, No. 200 Hennessy Road, Wanchai, Hong Kong. | For all items subject to the EAR. (See § 744.11 of the EAR). | Presumption of denial | 79 FR 32441, 6/5/14. 80 FR 69856, 11/12/15. 85 FR [INSERT FR PAGE NUMBER AND 12/23/20].
| Joe Shih, Room 9-11, 5/F, Block B, Hoplite Industrial Centre, 3-5 Wang Tai Road, Kowloon, Hong Kong. | For all items subject to the EAR. (See § 744.11 of the EAR). | Presumption of denial | 75 FR 7359, 2/19/10. 85 FR [INSERT FR PAGE NUMBER AND 12/23/20].
| Joinus Freight Systems HK Ltd, a.k.a., the following two aliases: —JFS Global Logistics; and —Joinus Freight Systems Global Logistics Limited. | For all items subject to the EAR. (See § 744.11 of the EAR). | Presumption of denial | 81 FR 14958, 3/21/16. 83 FR 44824, 9/4/18. 85 FR [INSERT FR PAGE NUMBER AND 12/23/20].
| Unit 07-07, 25F, Tower B, Regent Centre, 63 Wo Yi Hop Road, Kwai Chung, N.T. Hong Kong and Units 801-803 and 805, Park Sun Building, No. 97-107 Wo Yi Hop Road, Kwai Chung, Hong Kong.
| K Logistics (China) Limited, a.k.a., the following one alias: —K Logistics Hong Kong. Unit A, 4/F., China Fen Hin Building, No. 5 Cheung Yue St., Kowloon, Hong Kong. | For all items subject to the EAR. (See § 744.11 of the EAR). | Presumption of denial | 85 FR 34497, 6/5/20. 85 FR [INSERT FR PAGE NUMBER AND 12/23/20].
| * * * * * *
| Kinglead Electronics Co., Ltd., a.k.a., the following four aliases: —Kinglead International Trading; —Kinglead International Trading Limited; | For all items subject to the EAR. (See § 744.11 of the EAR). | Presumption of denial | 79 FR 32445, 6/5/14. 80 FR 69856, 11/12/15. 85 FR [INSERT FR PAGE NUMBER AND 12/23/20].
| —Kinglead Trading; and
| —Phonide Electronics Limited.
| 15H Office Building Buji, Central Plaza, Jihua Road, Buji, Longgang, Shenzhen, China; and Room 1041 Pacific Trade Center, No. 2 Kai Hing Road, Kowloon Bay, Hong Kong; and B5-3, 29/F, Legend Tower, 7 Shing Yip Street, Kwun Tong, Kowloon, Hong Kong.
| Kitronix Display, Unit B1, G/F, Pioneer Building, 213 Wai Yip St., Kwun Tong, Kowloon, Hong Kong. | For all items subject to the EAR. (See § 744.11 of the EAR). | Presumption of denial | 80 FR 69856, 11/12/15. 85 FR [INSERT FR PAGE NUMBER AND 12/23/20].
| Kong Fat Electronic Trading Limited, Unit 5, 1/F, Block A, Hoplite Industrial Centre, 3-5 Wang Tai Rd., Kowloon Bay, Kowloon, Hong Kong. | For all items subject to the EAR. (See § 744.11 of the EAR). | Presumption of denial | 73 FR 54503, 9/22/08. 85 FR [INSERT FR PAGE NUMBER AND 12/23/20].
| * * * * * *
| LHI Technology (H.K.) Company Limited, Units 801-803 and 805, Park Sun Building, No. 97-107 Wo Yi Hop Road, Kwai Chung, N.T., Hong Kong. | For all items subject to the EAR. (See § 744.11 of the EAR). | Presumption of denial | 83 FR 44824, 9/4/18. 84 FR 40241, 8/14/19. 85 FR [INSERT FR PAGE NUMBER AND 12/23/20].
| * * * * * *
| Lim Kow Seng, a.k.a., the following five aliases: —Alvin Stanley; —Eric Lim; | For all items subject to the EAR. (See § 744.11 of the EAR). | Presumption of denial | 76 FR 67062, 10/31/11. 85 FR [INSERT FR PAGE NUMBER AND 12/23/20].
| —James Wong;
| —Mike Knight; and
| —Seng Lim Kow.
| Flat/Rm 3208 32/F, Central Plaza, 18 Harbour Road, Wanchai, Hong Kong; and Flat/RM 2309, 23/F, Ho King COMM Center, 2-16 Fa Yuen Street, Mongkok KLN, Hong Kong (See alternate addresses under Singapore).
| * * * * * *
| Luo Jie, a.k.a., the following three aliases: —Cherry; —Ivy Luo; and | For all items subject to the EAR. (See § 744.11 of the EAR). | Presumption of denial | 76 FR 67062, 10/31/11. 85 FR [INSERT FR PAGE NUMBER AND 12/23/20].
| —Jie Luo.
| Room 1007, Block C2, Galaxy Century Bldg., CaiTian Rd., FuTian District, Shenzhen, China; and Room 1702, Tower B, Honesty Building, Humen, Dongguan, Guangdong, China; and Flat/RM 1510A, 15/F Ho King COMM Ctr, 2-16 Fa Yuen Street, Mongkok KL, Hong Kong; and C/O Win Sino Flat 12, 9/F, PO Hong Centre, 2 Wang Tung Street, Kowloon Bay, KLN, Hong Kong; and Flat/Rm D, 11/F 8 Hart Avenue, 8-10 Hart Avenue, Tsim Sha Tsui KL, Hong Kong; and G/F, No. 89, Fuyan Street, Kwun Tong, Hong Kong; and Flat 12, 9F Po Hong Kong, 2 Wang Tung Street, Kowloon Bay, Hong Kong; and Flat/RM B 8/F, Chong Ming Bldg., 72 Cheung Sha Wan Road, KL, Hong Kong; and Flat/Rm 3208 32/F Central Plaza, 18 Harbour Road, Wanchai, Hong Kong.
| * * * * * *
| Multi-Mart Electronics Technology Co, Ltd., 5/F Blk 37A, 3 Qiaogao Road, Nanhai, Guangdong, Foshan, China; and 29J King Palace Plaza, 55 King Yip Street, Kwun Tong, Kowloon, Hong Kong. | For all items subject to the EAR. (See § 744.11 of the EAR.) | Presumption of denial | 84 FR 21236, 5/14/19. 85 FR [INSERT FR PAGE NUMBER AND 12/23/20].
| * * * * * *
| OEM Hub Co Ltd, Rm 3208 32/F Central Plaza, 18 Harbour Road, Wanchai, Hong Kong; and Flat/RM 2309, 23/F, Ho King COMM Center, 2-16 Fa Yuen Street, Mongkok KLN, Hong Kong. | For all items subject to the EAR. (See § 744.11 of the EAR). | Presumption of denial | 76 FR 67062, 10/31/11. 85 FR [INSERT FR PAGE NUMBER AND 12/23/20].
| OnTime Electronics Technology Company, Room 609-610 6/F Boss Commercial Center, 28 Ferry Street, Jordon, Kowloon, Hong Kong. | For all items subject to the EAR. (See § 744.11 of the EAR). | Presumption of denial | 75 FR 36519, 6/28/10. 85 FR [INSERT FR PAGE NUMBER AND 12/23/20].
| Oriental Logistics Group LTD, a.k.a., the following one alias: —Oriental Air Transport Service Ltd.
| Room 2114, 21/F., Shenhua Commercial, Bldg, No. 2018 Jiabin Rd, Luo Hu District, Shenzhen, China 518001 and; Unit B, 10th Floor, United Overseas Plaza, No. 11, Lai Yip Street, Kwun Tong, Kowloon, Hong Kong; and 10/F, Union Bldg, 112 How Ming, Kwun Tong, Kowloon, Hong Kong. | For all items subject to the EAR. (See § 744.11 of the EAR). | Presumption of denial | 85 FR 59421, 9/22/20. 85 FR [INSERT FR PAGE NUMBER ND 12/23/20].
| * * * * * *
| Panda Semiconductor, Room 2, Unit A 14/F Shun on Commercial building, 112-114 Des Voeux Road, Central, Hong Kong. | For all items subject to the EAR. (See § 744.11 of the EAR). | Presumption of denial | 81 FR 40178, 6/21/16. 85 FR [INSERT FR PAGE NUMBER ND 12/23/20].
| * * * * * *
| Peaceful Vision (Lianyungang) Electronic Co., Ltd., a.k.a., the following two aliases: —Hangxing Electronics (Lianyungang) Co., Ltd; and | For all items subject to the EAR. (See § 744.11 of the EAR). | Presumption of denial | 85 FR 52901, 8/27/20. 85 FR [INSERT FR PAGE NUMBER ND 12/23/20].
| —Peaceful Vision Co., Ltd.
| No. 1 Changxing Road, Song Economic High-tech Zone, Lianyungang, Jiangsu, China; and No. 1 Changxing Road, Songtiao Hi-Tech Industrial Development Zone, Lianyungang, Jiangsu, China; and 20K, West Building, Science and Technology Capital, 668 Beijing East Road, Huangpu District, Shanghai, China; and Room 601, Unit 4, Building 5, Yufu Jiayuan, Yuquan Road, Haidian District, Beijing, China; and 4201A, 42/F, SEG Plaza, Shennan Middle Road, Shenzhen, China; and Room 813 8/F Hung Hom Commercial Center Block A 39 Ma Tau Wai Road, Hung Hom, Kowloon, Hong Kong.
| Pinky Trading Co., Ltd., 338 Queen's Road, Central, Hong Kong. | For all items subject to the EAR. (See § 744.11 of the EAR). | Presumption of denial | 81 FR 40178, 6/21/16. 85 FR [INSERT FR PAGE NUMBER AND 12/23/20].
| * * * * * *
| PRC Lode Technology Company, a.k.a., the following the following five aliases: —Lode International Limited; —Lode Technology Company; —Beijing Lode Technology Company, Ltd.; | For all items subject to the EAR. (See § 744.11 of the EAR). | Presumption of denial | 79 FR 44683, 8/1/14. 80 FR 69856, 11/12/15. 81 FR 14958, 3/21/16. 85 FR [INSERT FR PAGE NUMBER AND 12/23/20].
| —Beijing Nuodian Keji Youxian Gongsi; and
| —Beijing Nuodian Technology.
| Room 8306 Kelun Building, 12A Guanghua Road, Chaoyang, Beijing 100020, China; and Room 801, Unit 1, Building 8 Caiman Street, Chaoyang Road, Beijing 100025, China; and Building 1-1, No. 67 Caiman Str., Chaoyang Road, Beijing 100123, China; and Room A407 Kelun Building, 12A Guanghua Road, Chaoyang, Beijing 100020, China; and Rm 602, 5/F, No. 106 NanHu Road, ChaoYang District, Beijing, China; and Suite 801, Unit 1, Building 8 Caiman Street Finance & Economics Center, Chaoyang Road, Chaoyang District, Beijing; and Suite 306, Lianhua Building No. 159 Tianzhou Road, Xuhui District, Shanghai 200233; and Suite 6B3, Building 15, No. 300 Tianlin Road, Xuhui District, Shanghai 200233; and Suite 1901, Unit 1, Block 8, District E, Ziwei Garden City, Chang'an Technological Garden, Xi'an, 710119; and Suite 2002, Unit 4, Building 1 Zhongda Junyue Jinsha Phase 3 No. 15 Jinxiang Road, Qingyang District, Chengdu, 610031; Suite 1506, Building 4, Dachengxiaoshi, No. 10 Qingjiang Zhong Road, Qingyang District, Chengdu 610072; and Suite 904, Building A6, Shunfeng Emerald Garden, No. 168 Zhaofeng Road, Shijing, Baiyun District, Guangzhou, 510410; and No. 1263 Airport Road, Baiyun District, Guangzhou; and Suite 201, Tower A, Building 14, Qianxihe Garden Center, Nanchang, 330002; and Room 1019—1020 Nan Fung Centre, 264—298 Castle Peak Road, Tsuen Wan New Territories, Hong Kong; and Room 1522 Nan Fung Centre, 264—298 Castle Peak Road, Tsuen Wan New Territories, Hong Kong.
| * * * * * *
| Ray Hui, Units 801-803 and 805, Park Sun Building, No. 97-107 Wo Yi Hop Road, Kwai Chung, N.T., Hong Kong. | For all items subject to the EAR. (See § 744.11 of the EAR). | Presumption of denial | 83 FR 44824, 9/4/18. 85 FR [INSERT FR PAGE NUMBER AND 12/23/20].
| Reekay Technology Ltd., a.k.a., the following one alias: —Reekay Technology. | For all items subject to the EAR. (See § 744.11 of the EAR). | Presumption of denial | 80 FR 69856, 11/12/15. 85 FR [INSERT FR PAGE NUMBER AND 12/23/20].
| Suite 502, 5th Floor Arion Commercial Centre, No. 2-12 Queens Road West, Sheung Wan, Hong Kong.
| * * * * * *
| Sau Luen Chan, Unit 803, Fourseas Building, 208-212 Nathan Road, Kowloon, Hong Kong; and Room 803, Fourseas Bldg 208-212 Nathan Rd, Kowloon, Hong Kong. | For all items subject to the EAR. (See § 744.11 of the EAR). | Presumption of denial | 79 FR 56003, 9/18/14. 85 FR [INSERT FR PAGE NUMBER AND 12/23/20].
| * * * * * *
| Sergey Koynov, a.k.a., the following one alias: —Sergey V. Coyne. Room 704 7/F, Landwide Commercial Building, 118-120 Austin Rd, Tsim Sha Tsui, Hong Kong (See alternate address in Russia). | For all items subject to the EAR. (See § 744.11 of the EAR.) | Presumption of denial | 77 FR 61256, 10/9/12. 85 FR [INSERT FR PAGE NUMBER AND 12/23/20].
| Serko Limited, Room 704 7/F, Landwide Commercial Building, 118-120 Austin Rd, Tsim Sha Tsui, Hong Kong; and Room 1509, Unit A, 15th Floor, Mai Shun Industrial Building, No. 18-24 Kwai Cheong Road, New Territories, Hong Kong. | For all items subject to the EAR. (See § 744.11 of the EAR.) | Presumption of denial | 77 FR 61249, 10/9/12. 80 FR 69856, 11/12/15. 85 FR [INSERT FR PAGE NUMBER AND 12/23/20].
| * * * * * *
| Signet Express Co., Ltd., Room 9-11, 5/F, Block B, Hoplite Industrial Centre, 3-5 Wang Tai Road, Kowloon, Hong Kong. | For all items subject to the EAR. (See § 744.11 of the EAR). | Presumption of denial | 75 FR 7359, 2/19/10. 85 FR [INSERT FR PAGE NUMBER AND 12/23/20].
| Sik Yin Ngai, a.k.a., the following one alias: —Spencer Ngai. Unit 401, Harbour Ctr., Tower 2, 8 Hok Cheung Street, Hung Hom, Kowloon, Hong Kong. | For all items subject to the EAR. (See § 744.11 of the EAR). | Presumption of denial | 74 FR 35799, 7/21/09. 85 FR [INSERT FR PAGE NUMBER AND 12/23/20].
| Sinovac Technology Limited, Rm 804 Sino Center, 582-592 Sino Center Road, Hong Kong. | For all items subject to the EAR. (See § 744.11 of the EAR). | Presumption of denial | 79 FR 32445, 6/5/14. 85 FR [INSERT FR PAGE NUMBER AND 12/23/20].
| Siu Ching Ngai, a.k.a. the following one alias: —Terry Ngai. Unit C, 9/F Neich Tower, 128 Gloucester Road, Wanchai, Hong Kong. | For all items subject to the EAR. (See § 744.11 of the EAR). | Presumption of denial | 74 FR 35799, 7/21/09. 85 FR [INSERT FR PAGE NUMBER AND 12/23/20].
| Sky Rise Technology Ltd., a.k.a., the following one alias: —Sky Rise Tech. | For all items subject to the EAR. (See § 744.11 of the EAR). | Presumption of denial | 80 FR 69856, 11/12/15. 85 FR [INSERT FR PAGE NUMBER AND 12/23/20].
| 4-4-2301 Xinyi Jiayuan, Chongwenmen, Dongcheng, Beijing, China; and Room 1905, 19/F, Nam Wo Hong Bldg., 148 Wing Lok Street, Sheung Wang, Hong Kong; and Room 1118, 11/F, Block B1, Yau Tong Industrial City, 17 Ko Fai Road, Yau Tong, Kowloon, Hong Kong; Room 1119, 11/F, Block B, Yau Tong Industrial City, 17 Ko Fai Road, Yau Tong, Kowloon, Hong Kong.
| * * * * * *
| Skylinks FZC, a.k.a., the following two aliases: —Skylinks; and —Skylinks Satellite Comm. | For all items subject to the EAR. (See § 744.11 of the EAR). | Presumption of denial | 81 FR 14958, 3/21/16. 85 FR [INSERT FR PAGE NUMBER AND 12/23/20].
| RM 1905, 19/F, Nam Wo Hong Bldg., 148 Wing Lok Street, Sheung Wang, Hong Kong (See alternate addresses under U.A.E.).
| Smartcom (Hong Kong) Co., Limited, Sheung Wan, Hong Kong. | For all items subject to the EAR, see §§ 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 85 FR 29853, 5/19/20. 85 FR 36720, 6/18/20. 85 FR 51603, 8/20/20. 85 FR [INSERT FR PAGE NUMBER AND 12/23/20].
| SMIC Hong Kong International Company Limited, a.k.a., the following one alias: —SMIC Hong Kong. Suite 3003, 30th Floor, No. 9 Queen's Road Central Hong Kong. | All items subject to the EAR. (See § 744.11 of the EAR). | Presumption of denial for items uniquely required for production of semiconductors at advanced technology nodes (10 nanometer and below, including extreme ultraviolet technology). Case by case for all other items | 85 FR [INSERT FR PAGE NUMBER AND 12/23/20].
| * * * * * *
| Su Bin, a.k.a., the following two aliases: —Stephen Subin; and —Steve Su. Room 8306 Kelun Building, 12A Guanghua Road, Chaoyang, Beijing 100020, China; and Room 801, Unit 1, Building 8 Caiman Street, Chaoyang Road, Beijing 100025, China; and Building 1-1, No. 67 Caiman Str., Chaoyang Road, Beijing 100123, China; and Room A407 Kelun Building, 12A Guanghua Road, Chaoyang, Beijing 100020, China; and Rm 602, 5/F, No. 106 NanHu road, ChaoYang District, Beijing, China; and Rm 1019-1020 Nan Fung Centre, 264-298 Castle Peak Road, Tsuen Wan New Territories, Hong Kong; and Room 1522 Nan Fung Centre, 264-298 Castle Peak Road, Tsuen Wan New Territories, Hong Kong. | For all items subject to the EAR. (See § 744.11 of the EAR). | Presumption of denial | 79 FR 44683, 8/1/14. 85 FR [INSERT FR PAGE NUMBER AND 12/23/20]. 85 FR [INSERT FR PAGE NUMBER AND 12/23/20].
| * * * * * *
| Synergy Express Ltd., Room 1237, Pacific Trade Centre, No. 2 Kai Hing Road, Kowloon Bay, Hong Kong. | For all items subject to the EAR. (See § 744.11 of the EAR). | Presumption of denial | 79 FR 32445, 6/5/14. 85 FR [INSERT FR PAGE NUMBER AND 12/23/20].
| Sysdynamic Limited, Unit 716A, 7/F Enterprise Place (Building 9), No. 5 Science Park West Avenue, Hong Kong Science Park, Shatin, New Territories, Hong Kong; and Unit 401, Harbour Ctr., Tower 2, 8 Hok Cheung Street Hung Hom, Kowloon, Hong Kong. | For all items subject to the EAR. (See § 744.11 of the EAR). | Presumption of denial | 74 FR 35799, 7/21/09. 85 FR [INSERT FR PAGE NUMBER AND 12/23/20].
| * * * * * *
| Taihe Electric (Hong Kong) Limited, Room No. 2002, 20th Floor, Building B, Jinsha Winera Plaza, No. 1, Shujin Road, Qingyang District, Chengdu, Sichuan, 610091, P.R. China; and MOWA 2188, Rm. 1007, 10/F., Ho King Ctr., No. 2-16 Fa Yuen Street, Mongkok, Hong Kong. | For all items subject to the EAR. (See § 744.11 of the EAR). | See § 744.2(d) of the EAR | 85 FR 52901, 8/27/20. 85 FR [INSERT FR PAGE NUMBER AND 12/23/20].
| * * * * * *
| Tam Shue Ngai, Unit C, 9/F Neich Tower, 128 Gloucester Road, Wanchai, Hong Kong. | For all items subject to the EAR. (See § 744.11 of the EAR). | Presumption of denial | 74 FR 35799, 7/21/09. 85 FR [INSERT FR PAGE NUMBER AND 12/23/20].
| Tam Wai Tak, a.k.a., the following one alias: —Thomsom Tam. Room 609-610 6/F, Boss Commercial Center, 28 Ferry Street, Jordon, Kowloon, Hong Kong. | For all items subject to the EAR. (See § 744.11 of the EAR). | Presumption of denial | 75 FR 36519, 6/28/10. 85 FR [INSERT FR PAGE NUMBER AND 12/23/20].
| * * * * * *
| Technopole Ltd., Suite 1505-6, Albion Plaza, 2-6 Granville Road, TsimShatSui, Kowloon, Hong Kong (See alternate address under India). | For all items subject to the EAR. (See § 744.11 of the EAR). | Presumption of denial | 81 FR 61601, 9/7/16. 85 FR [INSERT FR PAGE NUMBER AND 12/23/20].
| * * * * * *
| Tenco Technology Company Ltd., a.k.a., the following three aliases: —Tenco International Co., Ltd.;
| —Shenzhen Tenco Technology Co., Ltd.; and | For all items subject to the EAR. (See § 744.11 of the EAR.) | Presumption of denial | 84 FR 21236, 5/14/19. 85 FR [INSERT FR PAGE NUMBER AND 12/23/20]. —Shenzhen Shengfaweiye Electronic Co., Ltd.
| Rm. 2709, Block A, Jiahe Huaqiang Building, Shennan Middle Rd., F Shenzhen, Guangdong 518007, China; and Room 2709, Block A, Jiahe Building, Shennan Mid Road, Futian District, Shenzhen, 518000, China; and Room 311 3F Genplas Industrial Building, 56 Hoi Yuen Road, Kwun Kowloon, Hong Kong; and Room 15, 6F Corporation Square, 8 Lam Lok Street, Kowloon Bay, Hong Kong.
| * * * * * *
| Tex-Co Logistics Ltd., a.k.a., the following one alias: —Tex-Co Hongxin Logistics Limited. GF Seapower Industrial Building 177, Hoi Bun Road, Kowloon, Hong Kong, and Room 2202, 22F, Causeway Bay Plaza 1, 489 Hennessey Road, Causeway Bay, Hong Kong, and Room B03, 6/F, Cheong Wah Factory Building, 39-41 Sheung Heung Road, Tokwawan, Kowloon, Hong Kong; and Room G, 6/F Winner Building, 36 Man Yue Street, Hung Hom, Kowloon. | For all items subject to the EAR. (See § 744.11 of the EAR). | Presumption of denial | 75 FR 7358, 2/19/10. 80 FR 69856, 11/12/15. 85 FR [INSERT FR PAGE NUMBER AND 12/23/20].
| * * * * * *
| TiMi Technologies Co., Ltd., a.k.a., the following two aliases: —TiMi Technology Co. Ltd.; and —TiMi Tech. | For all items subject to the EAR. (See § 744.11 of the EAR). | Presumption of denial | 80 FR 69856, 11/12/15. 85 FR [INSERT FR PAGE NUMBER AND 12/23/20].
| F/10, A-Tower, Nongke Building, 11/Shu Guang Hua Yuan Zhong Lu, Haidian District, Beijing, China, 100097; and Nanhai Avenue, Nanshan District, 518054, Shenzhen, China; and Room 1119, 11/F, Block B, Yau Tong Industrial City, 17 Ko Fai Road, Yau Tong, Kowloon, Hong Kong; and Room 1118, 11/F, Block B1, Yau Tong Industrial City, 17 Ko Fai Road, Yau Tong, Kowloon, Hong Kong; and Unit A, G/F, Pioneer Building, 213 Wai Yip St., Kwun Tong, Kowloon, Hong Kong; and Room 1905, 19/F, Nam Wo Hong Bldg., 148 Wing Lok Street, Sheung Wang, Hong Kong.
| * * * * * *
| Victory Wave Holdings Limited, Unit 2401 A, Park-In Commercial Centre, 56 Dundas Street, Hong Kong; and Unit 2401A, 24/F Park-In Commercial Centre, 56 Dundas Street, Mongkok, Kowloon, Hong Kong. | For all items subject to the EAR. (See § 744.11 of the EAR). | Presumption of denial | 75 FR 1701, 1/13/10. 85 FR [INSERT FR PAGE NUMBER AND 12/23/20].
| Wang Wei, a.k.a., the following one alias: —Jack Wang. 4-4-2301 Xinyi Jiayuan, Chongwenmen, Dongcheng, Beijing, China; and F/10, A-Tower, Nongke Building, 11/Shu Guang Hua Yuan Zhong Lu, Haidian District, Beijing, China, 100097; and Room 1905, 19/F, Nam Wo Hong Bldg., 148 Wing Lok Street, Sheung Wang, Hong Kong; and Room 1118, 11/F, Block B, Yau Tong Industrial City, 17 Ko Fai Road, Yau Tong, Kowloon, Hong Kong; and Room 1119, 11/F, Block B, Yau Tong Industrial City, 17 Ko Fai Road, Yau Tong, Kowloon, Hong Kong. | For all items subject to the EAR. (See § 744.11 of the EAR). | Presumption of denial | 80 FR 69856, 11/12/15. 85 FR [INSERT FR PAGE NUMBER AND 12/23/20].
| Well Smart (HK) Technology, Room 604, Kalok Building, 720 Nathan Road, Kowloon, Hong Kong. | For all items subject to the EAR. (See § 744.11 of the EAR). | Presumption of denial | 81 FR 40178, 6/21/16. 85 FR [INSERT FR PAGE NUMBER AND 12/23/20].
| Wise Smart (HK) Electronics Limited, Room 1213, Chui King House, Choi Hung Estate, Kowloon, Hong Kong. | For all items subject to the EAR. (See § 744.11 of the EAR). | Presumption of denial | 81 FR 40178, 6/21/16. 85 FR [INSERT FR PAGE NUMBER AND 12/23/20].
| Wong Wai Chung, a.k.a., the following one alias: —David Wong. Unit 27B, Block 8, Monte Vista, 9 Sha On Street, Ma On Shan, New Territories, Hong Kong; and Unit 7A, Nathan Commercial Building 430-436 Nathan Road, Kowloon, Hong Kong; and Room D, Block 1, 6/F International Industrial Centre, 2-8 Kwei Tei Street, Shatin, New Territories, Hong Kong. | For all items subject to the EAR. (See § 744.11 of the EAR). | Presumption of denial | 75 FR 1701, 1/13/10. 85 FR [INSERT FR PAGE NUMBER AND 12/23/20].
| Wong Yung Fai, a.k.a., the following one alias: —Tonny Wong. Unit 27B, Block 8, Monte Vista, 9 Sha On Street, Ma On Shan, New Territories, Hong Kong; and Unit 1006, 10/F Carnarvon Plaza, 20 Carnarvon Road, TST, Kowloon, Hong Kong; and Unit 7A, Nathan Commercial Building, 430-436 Nathan Road, Kowloon, Hong Kong; and Room D, Block 1, 6/F International Industrial Centre, 2-8 Kwei Tei Street, Shatin, New Territories, Hong Kong; and Unit 9B, Nathan Commercial Building 430-436 Nathan Road, Kowloon, Hong Kong; and Unit 2401A, 24/F Park-In Commercial Centre 56 Dundas Street, Mongkok, Kowloon, Hong Kong. | For all items subject to the EAR. (See § 744.11 of the EAR). | Presumption of denial | 75 FR 1701, 1/13/10. 85 FR [INSERT FR PAGE NUMBER AND 12/23/20].
| * * * * * *
| Xian Semi Electronic Co., Ltd., a.k.a., the following three aliases: —Semi Electronics Co.; —Semi Electronics International Co. Limited; and | For all items subject to the EAR. (See § 744.11 of the EAR). | Presumption of denial | 76 FR 71869, 11/21/11. 85 FR [INSERT FR PAGE NUMBER AND 12/23/20].
| —Exodus Microelectronics Co., Ltd.
| Room 24F, Duhui 100 Building Block B, ZhongHang Road, Futian District, Shenzhen City GuangDong Province, China; Room 1810 Lang Chen Building, No. 13 Gaoxin Road, High Technology Development Zone, Xian, China; Room 24F-27E Duhui B, Zhonghang Road, Futian District, Shenzhen City, China; and Room 1802 Xigema Building No. 25, Gaoxin Road, High-Tech Development Zone, Xian, China; and CAMDY, F1, 6/F BR3 Lanzhou Ind., No. 20-30 Jiangyuan, Yantian, Hong Kong; and Room 611 6/F Ricky CTR 36 Chong Yip St., Kwun Tong Kowloon, Hong Kong.
| Xianfa Lin, a.k.a., the following one alias: —Alpha Lam. 15H Office Building, Buji Central Plaza, Jihua Road, Buji Longgang, Shenzhen, China. | For all items subject to the EAR. (See § 744.11 of the EAR). | Presumption of denial | 79 FR 32445, 6/5/14. 82 FR 24245, 5/26/17. 85 FR [INSERT FR PAGE NUMBER AND 12/23/20].
| * * * * * *
| Y-Sing Components Limited, Unit 401, Harbour Ctr., Tower 2, 8 Hok Cheung Street, Hung Hom, Kowloon, Hong Kong. | For all items subject to the EAR. (See § 744.11 of the EAR). | Presumption of denial | 73 FR 54503, 9/22/08. 85 FR [INSERT FR PAGE NUMBER AND 12/23/20].
| Yeraz, LTD, a.k.a., the following one alias: —Mikrocity HK Limited. Room 927 9/F Far East Consortium Building, 121 Des Voeux Road C, Central District, Hong Kong; and Room 402-403, 4/F, Hong Kong Trade Centre, 161-167 Des Voeux Road, Central, Hong Kong. | For all items subject to the EAR. (See § 744.11 of the EAR). | Presumption of denial | 76 FR 44259, 7/25/11. 80 FR 69856, 11/12/15. 85 FR [INSERT FR PAGE NUMBER AND 12/23/20].
| * * * * * *
| Yutron Technology Co. Ltd., Room 201-203, Building 7B, International Business Center, 1001 Honghua Road, Futian Free Trade Zone, Shenzhen, China; and Suite B, 11/F, Foo Cheong Building, 82-86 Wing Lok Street, Sheung Wan, Hong Kong; and 24-28 5F, Topsail Plaza, 11 On Sum Street, Shaitin, Hong Kong. | For all items subject to the EAR. (See § 744.11 of the EAR.) | Presumption of denial | 84 FR 21236, 5/14/19. 85 FR [INSERT FR PAGE NUMBER AND 12/23/20].
| Zhou Zhenyong, a.k.a., the following two aliases: —Benny Zhou; and —Zhenyong Zhou. | For all items subject to the EAR. (See § 744.11 of the EAR). | Presumption of denial | 76 FR 67062, 10/31/11. 85 FR [INSERT FR PAGE NUMBER AND 12/23/20].
| Room 1007, Block C2, Galaxy Century Bldg., CaiTian Rd., FuTian District, Shenzhen, China; and Room 1702, Tower B, Honesty Building, Humen, Dongguan, Guangdong, China; and G/F, No. 89, Fuyan Street, Kwun Tong, Hong Kong; and Flat 12, 9F Po Hong Kong 2 Wang Tung Street, Kowloon Bay, Hong Kong; and Flat/RM B 8/F, Chong Ming Bldg., 72 Cheung Sha Wan Road, KL, Hong Kong; and Flat/RM 2309, 23/F, Ho King COMM Center, 2-16 Fa Yuen Street, Mongkok KLN, Hong Kong.
| * * * * * *
| ZM International Company Ltd., 4/F Enterprise Bldg 228-238, Queen's Road Central, Hong Kong; and Room C, 22/F, 235 Wing Lok Street, Trade Centre, Sheung Wan, N.T., Hong Kong. | For all items subject to the EAR. (See § 744.11 of the EAR). | Presumption of denial | 83 FR 44824, 9/4/18. 84 FR 40241, 8/14/19. 85 FR [INSERT FR PAGE NUMBER AND 12/23/20].
| * * * * * *
* * * * * * *
INDIA | * * * * * *
| Giovan Ltd., C-16A, New Multan Nagar, Surya Enclave, New Rohtak Road 099 Paschim Vihar, New Delhi, India 110056 (See alternate address under China). | For all items subject to the EAR. (See § 744.11 of the EAR). | Presumption of denial | 81 FR 61601, 9/7/16. 85 FR [INSERT FR PAGE NUMBER AND 12/23/20].
| * * * * * *
| Technopole Ltd., D-79, New Multan Nagar, Surya Enclave, New Rohtak Road 099 Paschim Vihar, New Delhi, India 110056 (See alternate address under China). | For all items subject to the EAR. (See § 744.11 of the EAR). | Presumption of denial | 81 FR 61601, 9/7/16. 85 FR [INSERT FR PAGE NUMBER AND 12/23/20].
* * * * * * *
IRAN | * * * * * *
| Anvik Technologies Sdn. Bhd., a.k.a., the following eight aliases: —Anvik Technologies; —Cason Technologies; | For all items subject to the EAR. (See § 744.11 of the EAR). | Presumption of denial | 78 FR 75463, 12/12/13. 85 FR [INSERT FR PAGE NUMBER AND 12/23/20].
| —Henan Electronics;
| —Hixton Technologies;
| —Hudson Technologies, Ltd.;
| —Hudson Engineering (Hong Kong) Ltd.;
| —Madison Engineering Ltd.; and
| —Montana Advanced Engineering.
| F10, No. 21, 9th Alley, Vozara Ave., Tehran, Iran (See alternate addresses under China and Malaysia).
| * * * * * *
| Babak Jafarpour, a.k.a., the following five aliases: —Bob Jefferson; —Peter Jay; | For all items subject to the EAR. (See § 744.11 of the EAR). | Presumption of denial | 78 FR 75463, 12/12/13. 85 FR [INSERT FR PAGE NUMBER AND 12/23/20].
| —Sam Lee;
| —Samson Lee; and
| —David Lee.
| F10, No. 21, 9th Alley, Vozara Ave., Tehran, Iran (See alternate addresses under China and Malaysia).
| * * * * * *
* * * * * * *
MALAYSIA | * * * * * *
| Anvik Technologies Sdn. Bhd., a.k.a., the following eight aliases: —Anvik Technologies; —Cason Technologies, | For all items subject to the EAR. (See § 744.11 of the EAR). | Presumption of denial | 78 FR 75463, 12/12/13. 85 FR [INSERT FR PAGE NUMBER AND 12/23/20].
| —Henan Electronics;
| —Hixton Technologies;
| —Hudson Technologies, Ltd.;
| —Hudson Engineering (Hong Kong) Ltd.;
| —Madison Engineering Ltd.; and
| —Montana Advanced Engineering.
| Level 36, Menara Citibank, 165 Jalan Ampang, Kuala Lumpur, Malaysia, 50450; and Level 20, Menara Standard Chartered, 30 Jalan Sultan Ismail, Kuala Lumpur, Malaysia, 50250 (See alternate addresses under China and Iran).
| * * * * * *
| Babak Jafarpour, a.k.a., the following five aliases: —Bob Jefferson; —Peter Jay; | For all items subject to the EAR. (See § 744.11 of the EAR). | Presumption of denial | 78 FR 75463, 12/12/13. 85 FR [INSERT FR PAGE NUMBER AND 12/23/20].
| —Sam Lee;
| —Samson Lee; and
| —David Lee.
| Level 36, Menara Citibank, 165 Jalan Ampang, Kuala Lumpur, Malaysia, 50450; and Level 20, Menara Standard Chartered, 30 Jalan Sultan Ismail, Kuala Lumpur, Malaysia, 50250; and Level 26, Tower 2, Etiqa Twins 11, Jalan Pinang, Kuala Lumpur, Malaysia 50450; and M-3-19 Plaza Damas, Sri Hartamas, Kuala Lumpur, Malaysia 50480 (See alternate addresses under China and Iran).
| * * * * * *
* * * * * * *
RUSSIA | * * * * * *
| Sergey Koynov, a.k.a., the following one alias: —Sergey V. Coyne. 106 Kuybyshev Str, Office 68, Yekaterinburg, Russia (see alternate address in China). | For all items subject to the EAR. (See § 744.11 of the EAR.) | Presumption of denial | 77 FR 61256, 10/9/12. 85 FR [INSERT FR PAGE NUMBER AND 12/23/20].
| * * * * * *
* * * * * * *
SINGAPORE | Action Global, a.k.a., the following one alias: —Action Global Co., Limited. 520 Sims Avenue, #02-04, Singapore 387580 (See alternate addresses under China). | For all items subject to the EAR. (See § 744.11 of the EAR). | Presumption of denial | 76 FR 67062, 10/31/11. 85 FR [INSERT FR PAGE NUMBER AND 12/23/20].
| Amaze International, Block 1057 Eunos Avenue 3, #02-85, Singapore 409848 (See alternate address under China). | For all items subject to the EAR. (See § 744.11 of the EAR). | Presumption of denial | 76 FR 67062, 10/31/11. 85 FR [INSERT FR PAGE NUMBER AND 12/23/20].
| * * * * * *
| Corezing International, a.k.a., the following five aliases: —CoreZing Electronics; —Corezing International Group Company; | For all items subject to the EAR. (See § 744.11 of the EAR). | Presumption of denial | 76 FR 67062, 10/31/11. 85 FR [INSERT FR PAGE NUMBER AND 12/23/20].
| —Corezing International Pte Ltd;
| —Corezing Technology Pte Ltd; and
| —Core Zing.
| 2021 Bukit Batok Street 23, #02-212, Singapore 659626; and 111 North Bridge Road, #27-01 Peninsula Plaza, Singapore 179098; and 50 East Coast Road, #2-70 Roxy Square, Singapore 428769; and Block 1057 Eunos Avenue 3, #2-85, Singapore 409848 (See alternate address under China).
| * * * * * *
| Lim Kow Seng, a.k.a., the following five aliases: —Alvin Stanley; —Eric Lim; | For all items subject to the EAR. (See § 744.11 of the EAR). | Presumption of denial | 76 FR 67062, 10/31/11. 85 FR [INSERT FR PAGE NUMBER AND 12/23/20].
| —James Wong;
| —Mike Knight; and
| —Seng Lim Kow.
| Blk 751 Woodlands Circle, #10-592, Singapore 730751; and 520 Sims Avenue, #02-04, Singapore 387580; and 2021 Bukit Batok Street 23, #02-212 Singapore 659626; and 111 North Bridge Road, #27-01 Peninsula Plaza, Singapore 179098; and 50 East Coast Road, #2-70 Roxy Square, Singapore 428769; and Block 1057 Eunos Avenue 3, #02-85, Singapore 409848 (See alternate addresses under China).
| * * * * * *
* * * * * * *
TAIWAN | * * * * * *
| Infinity Wise Technology Limited, Flat/RMA 6/F, Man Wing Building 503-507 Nathan Road Yaumate 1, Taiwan; and 8F, No. 431, Da-You Road Taoyuan, Taiwan (See alternate addresses under China). | For all items subject to the EAR. (See § 744.11 of the EAR). | Presumption of denial | 81 FR 40178, 6/21/16. 85 FR [INSERT FR PAGE NUMBER AND 12/23/20].
| * * * * * *
* * * * * * *
UNITED ARAB | * * * * * *
EMIRATES | Skylinks FZC, a.k.a., the following two aliases: —Skylinks; and —Skylinks Satellite Comm. | For all items subject to the EAR. (See § 744.11 of the EAR). | Presumption of denial | 81 FR 14958, 3/21/16. 85 FR [INSERT FR PAGE NUMBER AND 12/23/20].
| P.O. Box 28515, Dubai, U.A.E.; and 202 B Sama Tower Sheikh Tayed Road #3 Dubai, U.A.E., P.O. Box 16048; and BC2-414, RAK Free Trade Zone P.O. Box 16048 Ras Al Khaimah, U.A.E.; and G1/RAK Free Trade Zone RAK—U.A.E.; and G-17 Sheikh Tayed Road #3 Ras Al Khaimah Free Trade Zone, Dubai, U.A.E.; and P.O. Box 10559 Ras Al Khaimah, U.A.E.; and P.O. Box 25344 Bur Dubai, Dubai, U.A.E.; and Suite 608 Atrium Center, Bank St., Bur Dubai, Dubai, U.A.E., P.O. Box 16048; and Suite 706 Atrium Center Bank Street, Bur Dubai, Dubai U.A.E. 3 (See alternate address under China).
| * * * * * *
* * * * * * *

* * * * *

13. Supplement no. 6 to part 744 is amended:

a. Under CHINA:

i. By adding in alphabetical order entries for “Able Supply Chain Limited”, “AW Industrial Ltd.”, “Boqur International Ltd.”, “Boson Technology Co., Limited.”, “Brilliance Technology Ltd”, “Carry Goldstar Ltd.”, “Central Right Investments Ltd.”, “CST Source Industrial Co., Ltd.”, “Daystar Electric (HK) Ltd.”, “E-Chips Technology”, “Emax Technology Co. Ltd.”, “Fortune International Trading”, “Fussion Electronics Co., Ltd.”, “Globe Communication (HK) Ltd.”, “Haofeng Industrial Co., Ltd.”, “HK Hengyu Storage Logistics Limited”, “Hong Kong Engy Technology Co.”, “Hong Kong Haimao Info-Tec Development Co Ltd”, “Hongbo Industrial Technology”, “Jin Yan Technology & Development Co., Ltd.”, “Kenwoo International Trade Company”, “KingV Ltd.”, “Lianqi (HK) Electronics Co Ltd”, “Ling Ao Electronic Technology Co. Ltd”, “Lion Chip Electronics Ltd”, “Maipu Communication Technology Co Ltd”, “Master-Uni Industry Co.”, “Nano Tech International Co Ltd”, “Narpel Technology Co., Limited”, “Phonai Electronics Ltd.”, “Powersun Electronics”, “Rising Logistics Company Limited”, “Scitech International Express Co. Limited”, “Selective Components Ltd.”, “Suke Logistics Ltd.”, “Sun Wing Ltd.”, “Sur-Link Technology (HK) Ltd.”, “Swelatel Technology Limited”, “Toptech Electronics Ltd.”, “Universe Market Limited”, “Winthought Company Ltd.”, “Xiang Cheng Gao Trading (HK) Ltd.”, “Yashen (HK) Electronics”, “Yield Best International”, “Yogone Electronics Co.”, “ZDAS (HK) Company”, “ZhongJie Electronics”

b. By removing the entry for HONG KONG and all of the Hong Kong entities

The additions read as follows:

Supplement No. 6 to Part 744—Unverified List

* * * * *

Country | Listed person and address | Federal Register citation and date of publication
* * * * * * *
CHINA | Able Supply Chain Limited, Rm 511, 5/F, Corporation Park, 1 On Lai Street, Sha Tin, New Territories, Hong Kong; and Rm 605, 6/F, Corporation Park, 1 On Lai Street, Sha Tin, New Territories, Hong Kong; and Unit C, 9/F, Winning House, No. 72-76 Wing Lok Street, Sheung Wan, Hong Kong | 84 FR 14610, April 11, 2019.
| * * * * * *
| AW Industrial Ltd., Room A, 3/F Hung Fook Industrial Building, No 60 Hung To Road, Kwun Tong, Kowloon, Hong Kong; and | 85 FR [INSERT Federal Register PAGE NUMBER AND 12/23/20].
| D1 6/F Kras Asia Industrial Building, No 79 Hung To Road, Kwung Tong, Hong Kong
| Boqur International Ltd., Room 1203, 12/F, International Trade Centre, 11-19 Sha Tsui Road, Tsuen Wan, New Territories, Hong Kong; and Room 19C, Lockhart Centre, 301-307 Lockhart Road, Wan Chai, Hong Kong | 81 FR 40171, June 21, 2016.
| Boson Technology Co., Limited., Unit 22, 10/F, Nan Fung Commercial Centre, 19 Lam Lok Street, Kowloon, Kwun Tong, Hong Kong; and Room 1907, 19/F, Lee Garden One, 33 Hysan Avenue, Causeway Bay, Hong Kong; and Room 1501 (462), 15/F., SPA Centre, 53-55 Lockhart Road, Wan Chai, Hong Kong | 84 FR 14610, April 11, 2019.
| Brilliance Technology Ltd, a.k.a., Brilliance Technology Group, Flat A, 11/F, Adolfo Mansion, 114-116 Austin Road, Tsim Sha Tsui, Yau Tsim Mong, Hong Kong; and Rm. 1203, 12/F, Hip Kwan Commercial Bldg., 38 Pitt Street, Yau Ma Tei, Yau Tsim Mong, Hong Kong | 79 FR 34220, June 16, 2014; 82 FR 16732, April 6, 2017.
| Carry Goldstar Ltd., 15A, 15/F, Cheuk Nang Plaza, 250 Hennessy Road, Wan Chai, Hong Kong | 81 FR 40171, June 21, 2016.
| * * * * * *
| Central Right Investments Ltd., Room 1019, 10/F, 1 Hung To Road, Kwun Tong, Hong Kong | 81 FR 40171, June 21, 2016.
| * * * * * *
| CST Source Industrial Co., Ltd., Rooms 5-15, 13/F, South Tower, World Finance Centre, Harbour City, 17 Canton Road, Tsim Sha Tsui, Kowloon, Hong Kong | 81 FR 40171, June 21, 2016.
| * * * * * *
| Daystar Electric (HK) Ltd., Flat D, 19/F, Waylee Industrial Centre, 30-38 Tsuen King Circuit, Tsuen Wan, New Territories, Hong Kong; and 9/F Kam Chung Commercial Building, 19-21 Hennessy Road, Wanchai, Hong Kong | 80 FR 4781, January 29, 2015.
| E-Chips Technology, Unit 4, 7/F, Bright Way Tower, No. 33 Mong Kok Road, Mong Kok, Kowloon, Hong Kong; and Flat 1205, 12/F, Tai Sang Bank Building, 130-132 Des Voeux Road Hong Kong | 80 FR 4779, January 29, 2015; 80 FR 60532, October 7, 2015.
| Emax Technology Co. Ltd. HK, Room 19C, Lockhart Centre, 301-307 Lockhart Road, Wan Chai, Hong Kong; and Rm 2017, Lippo Centre Tower 2, 89 Queensway, Admiralty, Hong Kong | 85 FR [INSERT Federal Register PAGE NUMBER AND 12/23/20].
| Fortune International Trading, Room 1701(017) 17/F Henan Bldg, No. 90 Jaffee Rd, Wanchai, Hong Kong; and Room 1907, 19/F, Lee Garden One, 33 Hysan Avenue, Causeway Bay, Hong Kong | 85 FR [INSERT Federal Register PAGE NUMBER AND 12/23/20].
| Fussion Electronics Co., Ltd., 11/F, International Trade Centre, 11-19 Sha Tsui Road, Tsuen Wan, New Territories, Hong Kong | 81 FR 40171, June 21, 2016.
| Globe Communication (HK) Ltd., Flat 01A2, 10/F, Carnival Commercial Building, 18 Java Road, North Point, Hong Kong; and Flat C, 9/F, Winning House, 72-74 Wing Lok Street, Sheung Wan, Hong Kong | 81 FR 40171, June 21, 2016.
| * * * * * *
| Haofeng Industrial Co., Ltd., Room 1101, 11/F, San Toi Building, 139 Connaught Road, Central, Hong Kong | 81 FR 40171, June 21, 2016.
| * * * * * *
| HK Hengyu Storage Logistics Limited, Rm 2309, 23/F, Ho King Commercial Centre, 2-16 Fayuen St, Mongkok, Kwun Tong, Hong Kong; and Flat/Rm B10, 9/F, Mai Hing Factory Building, 16-18 Shing Yip Street, Kowloon, Kwun Tong, Hong Kong; and Flat/Rm B11, 12/F Mai Hing Factory Building, 16-18 Shing Yip Street, Kowloon, Kwun Tong, Hong Kong | 84 FR 14610, April 11, 2019.
| Hong Kong Engy Technology Co., a.k.a. Hong Kong Energy Technology Co., a.k.a. SZ Engy Technology Co., a.k.a. SZ Energy Technology Co., Workshop 15, 2/F, Cardinal Industrial Building, 17 On Lok Mun Street, Fanling, New Territories, Hong Kong | 81 FR 40171, June 21, 2016.
| Hong Kong Haimao Info-Tec Development Co Ltd, Rm 1013B, Well Fung Ind. Center, Ta Chuen Ping Street, Kwai Chung, Hong Kong | 79 FR 34220, June 16, 2014.
| Hongbo Industrial Technology, Unit 3, 9/F, Shing Yip Industrial Building, 19-21 Shing Yip Street, Kwun Tong, Kowloon, Hong Kong; and Unit 04, 7/F, Bright Way Tower, No. 33, Mong Kok Road, Kowloon, Hong Kong | 80 FR 4781, January 29, 2015.
| * * * * * *
| Jin Yan Technology & Development Co., Ltd., Workshop 11, 8/F, Block A, Delya Industrial Centre, 7 Shek Pai Tau Road, Tuen Mun, New Territories, Hong Kong; and Room 1, Fook Cheung Building, 42 Ka Shin Street, Tai Kok Tsui, Kowloon, Hong Kong | 81 FR 40171, June 21, 2016.
| Kenwoo International Trade Company, 1907, 19/F, Lee Garden One, 33 Hysan Avenue, Causeway Bay, Hong Kong; and Room 517, New City Centre, 2 Lei Yue Mun Road, Kwun Tong, Kowloon, Hong Kong; and Flat H, 6/F, Block 2, Golden Dragon Industrial Centre, Tai Lin Pai Road, Kwai Chung, Hong Kong | 85 FR [INSERT Federal Register PAGE NUMBER AND 12/23/20].
| KingV Ltd., a.k.a. Jinnway Data Ltd., Room 31, 9/F, Shing Yip Industrial Building, 19-21 Shing Yip Street, Kwun Tong, Kowloon, Hong Kong; and 11/F, Front Block, Hang Lok Building, 130 Wing Lok Street, Sheung Wan, Hong Kong | 81 FR 40171, June 21, 2016.
| Lianqi (HK) Electronics Co Ltd, Unit N, 3/F, Hopewell House, 175 Hip Wo Street, KwunTong, Kowloon, Hong Kong | 79 FR 34220, June 16, 2014.
| Ling Ao Electronic Technology Co. Ltd, a.k.a. Voyage Technology (HK) Co., Ltd., a.k.a. Xuan Qi Technology Co. Ltd, Room 17, 7/F, Metro Centre Phase 1, No. 32 Lam Hing St., Kowloon Bay, Kwun Tong, Hong Kong; and 15B, 15/F, Cheuk Nang Plaza, 250 Hennessy Road, Wan Chai, Hong Kong; and Flat C, 11/F, Block No. 2, Camelpaint Bldg., 62 Hoi Yuen Street, Kwun Tong, Kowloon, Hong Kong; and Room C1-D, 6/F, Wing Hing Industrial Building, 14 Hing Yip Street, Kwun Tong, Kowloon, Hong Kong; and Flat/Rm. A30, 9/F Silvercorp International Tower, 707-713 Nathan Road, Mongkok, Kowloon, Hong Kong; and Room 912A, 9/F. Witty Commercial Building, 1A-1L Tung Choi Street, Mongkok, Kowloon, Hong Kong; and Unit A, 7/F, King Yip Factory Bldg., 59 King Yip Street, Kwun Tong, Kowloon, Hong Kong; and Unit D, 16/F, One Capital Place, 18 Luard Road, Wan Chai, Hong Kong; and Unit B213, 1/F, New East Sun Industrial Bldg., 18 Shing Yip Street, Kowloon, Kwun Tong, Hong Kong | 80 FR 4779, January 29, 2015; 80 FR 60532, October 7, 2015; 82 FR 16733, April 6, 2017; 83 FR 22845, May 17, 2018; 84 FR 14610, April 11, 2019.
| Lion Chip Electronics Ltd, Unit N, 3/F, Hopewell House, 175 Hip Wo Street, KwunTong, Kowloon, Hong Kong | 79 FR 34220, June 16, 2014.
| * * * * * *
| Maipu Communication Technology Co Ltd, 7/F Kerry Warehouse, 36-42 Shan Mei St, Shatin, Hong Kong | 79 FR 34220, June 16, 2014.
| Master-Uni Industry Co., Ltd., Room 602, 6/F, 168 Queens Road, Central, Hong Kong | 81 FR 40171, June 21, 2016.
| * * * * * *
| Nano Tech International Co Ltd, Unit 5, 27/F, Richmond Commercial Building, 109 Argyle Street, Mongkok, Kowloon, Hong Kong | 79 FR 34220, June 16, 2014.
| Narpel Technology Co., Limited, Unit A, 6/F, Yip Fat Factory Building, Phase 1, No 77 Hoi Yuen Road, Kwun Tong, Kowloon, Hong Kong; and Room 4C, 8/F, Sunbeam Centre, 27 Shing Yip Street, Kwun Tong, Kowloon, Hong Kong; and Room 1905, Nam Wo Hong Building, 148 Wing Lok Street, Sheung Wan, Hong Kong; and 15B, 15/F, Cheuk Nang Plaza, 250 Hennessy Road, Wan Chai, Hong Kong | 79 FR 34217, June 16, 2014; 80 FR 4779 January 29, 2015; 80 FR 60532, October 7, 2015.
| * * * * * *
| Phonai Electronics Ltd., 51F, Core Building 11, New Territories, Hong Kong | 81 FR 40171, June 21, 2016.
| Powersun Electronics, Flat/Rm 502D, Hang Pont Commercial Building, 31 Tonkin Street, Cheung Sha Wan, Kowloon, Hong Kong; and G/F and G/M, Winner Godown Building, 1-9 Sha Tsui Road, Tsuen Wan, New Territories, Hong Kong | 79 FR 34217, June 16, 2014; 80 FR 4781, January 29, 2015.
| Rising Logistics Company Limited, Workshop 12, 13/F, Block B, New Trade Plaza, No. 6, On Ping Street, Sha Tin, New Territories, Hong Kong; and Unit 208, 2/F, Block B, Hoi Luen Industrial Centre, 55 Hoi Yuen Road, Kowloon, Kwun Tong, Hong Kong; and Unit 1105, Hua Qin International Building, 340 Queens Road, Central, Hong Kong Island, Hong Kong | 84 FR 14610, April 11, 2019.
| * * * * * *
| Scitech International Express Co. Limited, Workshop 11, 8/F, Block A, Delya Industrial Centre, 7 Shek Pai Tau Road, Tuen Mun, New Territories, Hong Kong | 81 FR 40171, June 21, 2016.
| Selective Components Ltd., Room 8, 10/F, International Trade Centre, 11-19 Sha Tsui Road, Tsuen Wan, New Territories, Hong Kong | 81 FR 40171, June 21, 2016.
| * * * * * *
| Suke Logistics Ltd., Flat 6, 20/F, Mega Trade Centre, 1-9 Mei Wan Street, Tsuen Wan, New Territories, Hong Kong | 80 FR 4781, January 29, 2015.
| Sun Wing Ltd., Room 31, 9/F, Shing Yip Industrial Building, 19-21 Shing Yip Street, Kwun Tong, Kowloon, Hong Kong | 81 FR 40171, June 21, 2016.
| Sur-Link Technology (HK) Ltd., a.k.a. Sur-Link International (HK) Ltd., a.k.a. Surlink Group, Flat 6, 20/F, Mega Trade Centre, 1-9 Mei Wan Street, Tsuen Wan, New Territories, Hong Kong | 81 FR 40171, June 21, 2016.
| Swelatel Technology Limited, Rm. 19C, Lockhart Ctr., 301-307 Lockhart Rd., Wan Chai, Hong Kong; and Rm. 2107, Lippo Centre Tower 2, 89 Queensway, Admiralty, Wan Chai, Hong Kong | 84 FR 14610, April 11, 2019.
| * * * * * *
| Toptech Electronics Ltd., 15/F, Hong Kong and Macau Building, 156-157 Connaught Road, Central, Hong Kong | 81 FR 40171, June 21, 2016.
| * * * * * *
| Universe Market Limited, Unit A, 17/F, Good Will Industrial Building, 36-44 Pak Tin Par Street, Tsuen Wan, New Territories, Hong Kong | 84 FR 14610, April 11, 2019.
| Winthought Company Ltd., Unit E1, 3/F, Wing Tat Commercial Building, 121-125 Wing Lok Street, Sheung Wan, Hong Kong | 81 FR 40171, June 21, 2016.
| * * * * * *
| Xiang Cheng Gao Trading (HK) Ltd., 1215 Lot, DD 125, Ha Tsuen Road, Ha Tsuen, Ping Shan, Yuen Long, New Territories, Hong Kong | 85 FR [INSERT Federal Register PAGE NUMBER AND 12/23/20].
| * * * * * *
| Yashen (HK) Electronics, Flat R, 15/F, Phase 2, Goldfield Industrial Building, 144-150 Tai Lin Pai Road, Kai Chung, New Territories, Hong Kong; and Room N, 3/F, Mongkok Building, 97 Mongkok Road, Kowloon, Hong Kong | 79 FR 34220, June 16, 2014.
| Yield Best International, 6/F, Block H, East Sun Industrial Centre, 16 Shing Yip Street, Kwun Tong, Kowloon, Hong Kong; and Unit J, 9/F, King Win Factory Building, 65-67 King Yip Street, Kwun Tong, Hong Kong | 81 FR 40171, June 21, 2016.
| Yogone Electronics Co., Unit 602, 6/F, Silvercord Tower 2, 30 Canton Road, Tsim Sha Tsui, Kowloon, Hong Kong | 80 FR 60532, October 7, 2015.
| * * * * * *
| ZDAS (HK) Company, G/F, 16 Kwan Tei North Tsuen Leung Yeuk Tau, Sha Tau Kok Road, Fanling, Hong Kong; and Room 1609, 16/F, Block B, Veristrong Industrial Center, 34-36 Au Pui Wan Street, FoTaan, Shatin, New Territories, Hong Kong | 79 FR 34220, June 16, 2014.
| ZhongJie Electronics, G/F, 26 Pau Chung Street, Tokwawan, Kowloon, Hong Kong; and Rm 2309, 23/F, Ho King Comm Ctr, 2-16 Fayuen St., Mongkok, Kowloon, Hong Kong | 79 FR 34220, June 16, 2014.
| * * * * * *
* * * * * * *

PART 745—CHEMICAL WEAPONS CONVENTION REQUIREMENTS

14. The authority citation for part 745 continues to read as follows:

Authority: 50 U.S.C. 1701 et seq.; E.O. 12938, 59 FR 59099, 3 CFR, 1994 Comp., p. 950); Notice of November 12, 2019, 84 FR 61817 (November 13, 2019).

15. Supplement no. 2 to part 745 is revised to read as follows:

Supplement No. 2 To Part 745—States Parties to the Convention on the Prohibition of the Development, Production, Stockpiling, and Use of Chemical Weapons and on Their Destruction

List of States Parties as of June 1, 2016

Afghanistan

Albania

Algeria

Andorra

Angola

Antigua and Barbuda

Argentina

Armenia

Australia

Austria

Azerbaijan

Bahamas

Bahrain

Bangladesh

Barbados

Belarus

Belgium

Belize

Benin

Bhutan

Bolivia

Bosnia-Herzegovina

Botswana

Brazil

Brunei Darussalam

Bulgaria

Burkina Faso

Burma

Burundi

Cambodia

Cameroon

Canada

Cape Verde

Central African Republic

Chad

Chile

China *

Colombia

Comoros

Congo (Democratic Republic of the)

Congo (Republic of the)

Cook Islands

Costa Rica

Cote d'Ivoire (Ivory Coast)

Croatia

Cuba

Cyprus

Czech Republic

Denmark

Djibouti

Dominica

Dominican Republic

Ecuador

El Salvador

Equatorial Guinea

Eritrea

Estonia

Ethiopia

Fiji

Finland

France

Gabon

Gambia

Georgia

Germany

Ghana

Greece

Grenada

Guatemala

Guinea

Guinea-Bissau

Guyana

Haiti

Holy See

Honduras

Hungary

Iceland

India

Indonesia

Iran

Iraq

Ireland

Italy

Jamaica

Japan

Jordan

Kazakhstan

Kenya

Kiribati

Korea (Republic of)

Kuwait

Kyrgyzstan

Laos (P.D.R.)

Latvia

Lebanon

Lesotho

Liberia

Libya

Liechtenstein

Lithuania

Luxembourg

Macedonia

Madagascar

Malawi

Malaysia

Maldives

Mali

Malta

Marshall Islands

Mauritius

Mauritania

Mexico

Micronesia

Moldova (Republic of)

Monaco

Mongolia

Montenegro

Morocco

Mozambique

Namibia

Nauru

Nepal

Netherlands (Kingdom of the) ***

New Zealand

Nicaragua

Niger

Nigeria

Niue

Norway

Oman

Pakistan

Palau

Panama

Papua New Guinea

Paraguay

Peru

Philippines

Poland

Portugal

Qatar

Romania

Russian Federation

Rwanda

Saint Kitts and Nevis

Saint Lucia

Saint Vincent and the Grenadines

Samoa

San Marino

Sao Tome and Principe

Saudi Arabia

Senegal

Serbia

Seychelles

Sierra Leone

Singapore

Slovak Republic

Slovenia

Solomon Islands

Somalia

South Africa

Spain

Sri Lanka

Sudan

Suriname

Swaziland

Sweden

Switzerland

Syria

Tajikistan

Tanzania

Thailand

Timor-Leste

Togo

Tonga

Trinidad and Tobago

Tunisia

Turkey

Turkmenistan

Tuvalu

Uganda

Ukraine

United Arab Emirates

United Kingdom

United States

Uruguay

Uzbekistan

Vanuatu

Venezuela

Vietnam

Yemen

Zambia

Zimbabwe

* For CWC purposes only, China includes Macau.

*** For CWC purposes only, the Netherlands (Kingdom of) includes: Aruba, Curaçao, and Saint Maarten (the Dutch two-fifths of the island of Saint Martin).

PART 748—APPLICATIONS (CLASSIFICATION, ADVISORY, AND LICENSE AND DOCUMENTATION)

16. The authority citation for part 748 continues to read as follows:

Authority: 50 U.S.C. 4801-4852; 50 U.S.C. 4601 et seq.; 50 U.S.C. 1701 et seq.; E.O. 13026, 61 FR 58767, 3 CFR, 1996 Comp., p. 228; E.O. 13222, 66 FR 44025, 3 CFR, 2001 Comp. (A), p. 783.

17. Section 748.10 is amended by adding note 5 to paragraph (a) to read as follows:

§ 748.10 People's Republic of China (PRC) End-User Statement.

(a) * * *

Note 5 to paragraph (a): This requirement to obtain an end-user statement from the PRC Ministry of Commerce does not apply to transactions destined to the PRC Special Administrative Region of Hong Kong.

* * * * *

PART 758—EXPORT CLEARANCE

18. The authority citation for part 758 continues to read as follows:

Authority: 50 U.S.C. 4801-4852; 50 U.S.C. 4601 et seq.; 50 U.S.C. 1701 et seq.; E.O. 13222, 66 FR 44025, 3 CFR, 2001 Comp., p. 783.

19. Section 758.1 is amended by adding note 1 to paragraph (b)(10) to read as follows:

§ 758.1 The Electronic Export Information (EEI) filing to the Automated Export System (AES)

* * * * *

(b) * * *

(10) * * *

Note 1 to paragraph (b)(10): Paragraph (b)(10) applies to exports to Hong Kong, as this destination is considered a part of the People's Republic of China under the EAR, even if the AES requirements state that the destination filed in EEI is to be listed as Hong Kong.

* * * * *

Matthew S. Borman,
Deputy Assistant Secretary for Export Administration.

[FR Doc. 2020-28101 Filed 12-22-20; 8:45 am]

BILLING CODE 3510-33-P